ENVIRONMENTAL PROTECTION AGENCY

40 CFR Part 372

[EPA-HQ-TRI-2019-0146; FRL-9995-92]

RIN 2070-AK53

Community Right-to-Know; Corrections to Toxics Release Inventory (TRI) Reporting Requirements

AGENCY: Environmental Protection Agency (EPA).

ACTION: Proposed rule.

SUMMARY: EPA is proposing corrections to existing regulatory language for the Toxics Release Inventory (TRI) Program. EPA is proposing corrections that will update identifiers, formulas, and names for certain TRI-listed chemicals and updates to the text that identifies which chemicals the 0.1 percent de minimis concentration applies to in order to remedy a cross-reference to a no-longer-accurate Occupational Safety and Health Administration (OSHA) regulatory citation. These proposed corrections maintain previous regulatory actions and do not alter existing reporting requirements or impact compliance burdens or costs.

DATES: Comments must be received on or before January 28, 2020.

ADDRESSES: Submit your comments, identified by docket identification (ID) number EPA-HQ-TRI-2019-0146, by one of the following methods:

• Federal eRulemaking Portal: http://www.regulations.gov. Follow the online instructions for submitting comments. Do not submit electronically any information you consider to be Confidential Business Information (CBI) or other information whose disclosure is restricted by statute.

• Mail: Document Control Office (7407M), Office of Pollution Prevention and Toxics (OPPT), Environmental Protection Agency, 1200 Pennsylvania Ave. NW, Washington, DC 20460-0001.

• Hand Delivery: To make special arrangements for hand delivery or delivery of boxed information, please follow the instructions at http://www.epa.gov/dockets/contacts.html.

Additional instructions on commenting or visiting the docket, along with more information about dockets generally, is available at http://www.epa.gov/dockets.

FOR FURTHER INFORMATION CONTACT:

For technical information contact: Daniel Bushman, Toxics Release Inventory Program Division, Mailcode 7410M, Office of Pollution Prevention and Toxics, Environmental Protection Agency, 1200 Pennsylvania Ave. NW, Washington, DC 20460-0001; telephone number: (202) 566-0743; email address: bushman.daniel@epa.gov.

For general information contact: The Emergency Planning and Community Right-to-Know Hotline; telephone numbers: toll free at (800) 424-9346 (select menu option 3) or (703) 348-5070 in the Washington, DC Area and International; or go to https://www.epa.gov/home/epa-hotlines.

SUPPLEMENTARY INFORMATION:

I. General Information

A. Does this action apply to me?

You may be potentially affected by this action if you manufacture, process, or otherwise use any TRI listed chemical. The following list of North American Industrial Classification System (NAICS) codes is not intended to be exhaustive, but rather provides a guide to help readers determine whether this document applies to them. Potentially affected entities may include:

• Facilities included in the following NAICS manufacturing codes (corresponding to Standard Industrial Classification (SIC) codes 20 through 39): 311*, 312*, 313*, 314*, 315*, 316, 321, 322, 323*, 324, 325*, 326*, 327, 331, 332, 333, 334*, 335*, 336, 337*, 339*, 111998*, 211130*, 212324*, 212325*, 212393*, 212399*, 488390*, 511110, 511120, 511130, 511140*, 511191, 511199, 512230*, 512250*, 519130*, 541713*, 541715* or 811490*. *Exceptions and/or limitations exist for these NAICS codes.

• Facilities included in the following NAICS codes (corresponding to SIC codes other than SIC codes 20 through 39): 212111, 212112, 212113 (corresponds to SIC code 12, Coal Mining (except 1241)); or 212221, 212222, 212230, 212299 (corresponds to SIC code 10, Metal Mining (except 1011, 1081, and 1094)); or 221111, 221112, 221113, 221118, 221121, 221122, 221330 (limited to facilities that combust coal and/or oil for the purpose of generating power for distribution in commerce) (corresponds to SIC codes 4911, 4931, and 4939, Electric Utilities); or 424690, 425110, 425120 (limited to facilities previously classified in SIC code 5169, Chemicals and Allied Products, Not Elsewhere Classified); or 424710 (corresponds to SIC code 5171, Petroleum Bulk Terminals and Plants); or 562112 (limited to facilities primarily engaged in solvent recovery services on a contract or fee basis (previously classified under SIC code 7389, Business Services, NEC)); or 562211, 562212, 562213, 562219, 562920 (limited to facilities regulated under the Resource Conservation and Recovery Act, subtitle C, 42 U.S.C. 6921 et seq.) (corresponds to SIC code 4953, Refuse Systems).

• Federal facilities.

To determine whether your facility would be affected by this action, you should carefully examine the applicability criteria in part 372, subpart B, of title 40 of the Code of Federal Regulations (CFR). If you have questions regarding the applicability of this action to a particular entity, consult the person listed under FOR FURTHER INFORMATION CONTACT.

B. What action is the Agency taking?

EPA is proposing corrections to existing regulatory language for the TRI Program. EPA is proposing (a) editorial corrections that will update identifiers, formulas, and names for certain TRI-listed chemicals described in the CFR, and (b) updated text to indicate for which chemicals the 0.1 percent de minimis concentration applies to remedy a cross-reference to a no-longer-accurate OSHA regulatory citation. This action does not change the regulatory requirements of the TRI Program. This action is a “housekeeping” rulemaking intended to correct inaccuracies in regulatory text.

C. What is the Agency's authority for taking these actions?

EPA is taking these actions under sections 313(g)(1) and 328 of the Emergency Planning and Community Right-to-Know Act (EPCRA), 42 U.S.C. 11023(g)(1) and 11048. In general, EPCRA section 313 requires owners and operators of covered facilities in specified SIC codes that manufacture, process, or otherwise use listed toxic chemicals in amounts above specified threshold levels to report certain facility specific information about such chemicals, including the annual releases and other waste management quantities. EPCRA section 313(g)(1) requires EPA to publish a uniform toxic chemical release form for these reporting purposes, and it also prescribes, in general terms, the types of information that must be submitted on the form. Congress also granted EPA broad rulemaking authority to allow the Agency to fully implement the statute. EPCRA section 328 states that: “The Administrator may prescribe such regulations as may be necessary to carry out this chapter.” 42 U.S.C. 11048.

II. Background

A. What specific changes are the Agency proposing to make?

EPA is proposing corrections that will update identifiers, formulas, and names for certain TRI-listed chemicals described in the CFR. Specifically, this proposal will (i) remove chemical names for those chemicals that have been delisted or moved to other listings, (ii) incorporate listings in 40 CFR 372.65(b) for chemicals that are listed in 40 CFR 372.65(a) but are not listed in 40 CFR 372.65(b), (iii) correct inaccurate Chemical Abstracts Service Registry Numbers (CASRNs), (iv) correct errors in chemical category definitions, (v) remedy other known errors in the CFR chemical lists, (vi) remove leading zeros from CASRNs, (vii) correct errors in the list of lower thresholds for chemicals of special concern, and (viii) revise the list of chemical names to include only the TRI primary name and the EPA registry name (if different from the TRI primary name) as a synonym. In addition, EPA is proposing to replace an existing outdated cross-referenced regulatory citation and modify the text of the de minimis exemption, without changing the substance of the exemption itself.

B. What chemical listings are EPA proposing to remove?

1. Ammonium nitrate (solution) (CASRN: 6484-52-2). Ammonium nitrate solution is listed with an asterisk in the CFR with an associated footnote that states that it “. . . is removed from this listing; the removal is effective July 2, 1995, for the 1995 reporting year.” Incorporation of this language was a result of a final rule that removed ammonium nitrate solution from the EPCRA section 313 chemical list (June 30, 1995, 60 FR 34172, FRL-4962-4). Ammonium nitrate solution was removed because the ammonia portion of the solution is reportable under the listing for ammonia and the nitrate portion of the solution is reportable under the listing for nitrate compounds. EPA is proposing to remove this listing and associated footnote from the CFR under both the alphabetical ordered listing at 40 CFR 372.65(a) and the CASRN ordered listing at 40 CFR 372.65(b).

2. Ammonium sulfate (solution) (CASRN: 7783-20-2). Ammonium sulfate (solution) was delisted in a final rule published on June 30, 1995 (60 FR 34172, FRL-4962-4) but remains in the CFR in the CASRN ordered list at 40 CFR 372.65(b). EPA is proposing to remove the listing for ammonium sulfate (solution) from the CASRN ordered list at 40 CFR 372.65(b).

3. Flumetralin (CASRN: 62924-70-3). Flumetralin was deferred from listing in the 1994 chemical expansion final rule published on November 30, 1994 (59 FR 61432, FRL-4922-2) but was mistakenly added to the CASRN ordered list at 40 CFR 372.65(b). EPA is proposing to remove the listing for flumetralin from the CASRN ordered list at 40 CFR 372.65(b).

4. Methylenebis (phenylisocyanate) (MDI) (CASRN: 101-68-8). In the 1994 chemical expansion final rule published on November 30, 1994 (59 FR 61432, FRL-4922-2), MDI was moved to the diisocyanates category at 40 CFR 372.65(c). However, the regulatory text did not remove MDI as an individually listed chemical under the alphabetical ordered listing at 40 CFR 372.65(a) or the CASRN ordered listing at 40 CFR 372.65(b) and thus it remains as an individually listed chemical in the CFR. EPA is proposing to remove the individual listings in the CFR for MDI from both the alphabetical ordered listing at 40 CFR 372.65(a) and the CASRN ordered listing at 40 CFR 372.65(b). MDI will remain a member of the diisocyanates category.

C. What chemicals are EPA proposing to incorporate into 40 CFR 372.65(b)?

1. Toluene-2,4-diisocyanate (2,4-TDI) (CASRN: 584-84-9). 2,4-TDI was part of the original EPCRA section 313 chemical list created by Congress, however it was never added to the CASRN ordered listing at 40 CFR 372.65(b) in the CFR. It only appears under the alphabetical ordered listing at 40 CFR 372.65(a). EPA is proposing to add 2,4-TDI to the CASRN ordered list at 40 CFR 372.65(b).

2. Vinyl bromide (CASRN: 593-60-2). Vinyl bromide was part of the original EPCRA section 313 chemical list created by Congress, however it was never added to the CASRN ordered listing at 40 CFR 372.65(b) in the CFR. It only appears under the alphabetical ordered listing at 40 CFR 372.65(a). EPA is proposing to add vinyl bromide to the CASRN ordered list at 40 CFR 372.65(b).

D. What CASRNs are EPA proposing to correct?

1. Phosphorus (yellow or white). The current CASRN for phosphorus (yellow or white), 7723-14-0, as originally assigned by Congress, is not assigned by the Chemical Abstracts Service (CAS) to the yellow or white form of phosphorus. CASRN 7723-14-0 is assigned by the CAS to phosphorus (black or red). The CASRN assigned to phosphorus (yellow or white) is 12185-10-3. At the time that the original list was developed, EPA believes that phosphorus yellow and white were listed as chemical synonyms under CASRN 7723-14-0. EPA also believes that the name phosphorus (yellow or white) correctly identified the chemical that Congress intended to include under EPCRA section 313. Therefore, EPA is proposing to change the CASRN for phosphorus (yellow or white) to 12185-10-3 under both the alphabetical ordered listing at 40 CFR 372.65(a) and the CASRN ordered listing at 40 CFR 372.65(b).

2. d-trans-Allethrin. d-trans-Allethrin is listed with a CASRN of 28057-48-9, however, that CASRN has been dropped by CAS and replaced with CASRN 28434-00-6. Therefore, EPA is proposing to change the CASRN for d-trans-allethrin to 28434-00-6 under both the alphabetical ordered listing at 40 CFR 372.65(a) and the CASRN ordered listing at 40 CFR 372.65(b). Any facility currently reporting for d-trans-allethrin under the old CASRN should still report using the new CASRN.

E. What category chemical definitions are EPA proposing to correct?

1. Cyanide compounds category. The definition for the cyanide compounds category is: “X+CN− where X = H+ or any other group where a formal dissociation can be made. For example, KCN or Ca(CN)2.” However, there are two errors in the CFR which has the category listed as: “X=CN− where X = H− or any other group where a formal dissociation can be made. For example, KCN or Ca(CN)2.” The X= in the CFR definition should be X+ and the H− in the CFR definition should be H+; as written the definition in the CFR is not chemically correct. Also, the formula for the cyanide compounds category captures hydrogen cyanide (when X = H+), but hydrogen cyanide is an individually listed chemical. EPA's guidance to reporters is to not report hydrogen cyanide under the cyanide compounds category since it is an individually listed chemical. Therefore, EPA is proposing to remove H+ from the cyanide compounds category definition to avoid any confusion over whether hydrogen cyanide is reportable under the category. The revised definition would be: “X+CN− where X+ = any group (except H+) where a formal dissociation can be made. For example: KCN or Ca(CN)2.”

2. Polychlorinated alkanes category. The formula for the polychlorinated alkanes (C10 to C13) category should be: Cx H2x-y+2 Cly. However, there is an error in the CFR which has the category formula listed as: Cx H2x-y=2 Cly. The CFR formula is not chemically correct since the y=2 should be y+2. Therefore, EPA is proposing to correct the CFR formula by changing the y=2 to y+2.

F. What other chemical list errors are EPA proposing to correct?

1. 2,2-Dibromo-3-nitrilopropionamide (DBNPA) (CASRN: 10222-01-2). DBNPA is listed with a footnote but is missing an asterisk to link it to the footnote. The footnote at the end of 40 CFR 372.65(a) and (b) for DBNPA reads as follows: “*Note: The listing of 2,2-dibromo-3-nitrilopropionamide (DBNPA) (CASRN No. 10222-01-2) is stayed. The stay will remain in effect until further administrative action is taken.” A footnote should be added to the entries for DBNPA in both the alphabetically ordered list at 40 CFR 372.65(a) and the CASRN ordered list at 40 CFR 372.65(b) so that the reader is directed to the existing footnote. Therefore, EPA is proposing to add a footnote to the listings for DBNPA.

2. Methyl mercaptan (74-93-1). Methyl mercaptan is listed in the CFR at 40 CFR 372.65(a) and (b) without a footnote explaining that the reporting for this chemical has been stayed. There is an effective date note at the end of 40 CFR 372.65 which states “EFFECTIVE DATE NOTE: At 59 FR 43050, Aug. 22, 1994, in 40 CFR 372.65, in paragraph (a), the methyl mercaptan entry and in paragraph (b), the entry for CASRN No. 74-93-1 were stayed indefinitely.” Unless the reader happens to look at the very end of 40 CFR 372.65 they would not be aware of the reporting status for methyl mercaptan. As was done for DBNPA, there should be a footnote that explains the reporting status and the entries for methyl mercaptan at 40 CFR 372.65(a) and (b). Therefore, EPA is proposing to add a footnote to the listings for methyl mercaptan at 40 CFR 372.65(a) and (b) and a footnote that states “The listing of methyl mercaptan (CASRN No. 74-93-1) is stayed. The stay will remain in effect until further administrative action is taken.”

3. Polybrominated biphenyls (PBBs) category. The chemical structure associated with the PBB category is out of place in the CFR at 40 CFR 372.65(c). It appears well past the entry for the category. The chemical structure for the PBB category should appear immediately after the entry for the category. EPA is proposing that the structure for the PBB category be placed adjacent to the entry for the category.

4. Remove leading zeros from CASRNs. EPA is proposing to remove the leading zeros from the chemicals listed at 40 CFR 372.65(a), (b) and (c). CASRNs should not have leading zeros and nearly all the chemicals listed at 40 CFR 372.65 are listed without leading zeros. However, there are some chemicals listed in 40 CFR 372.65 whose CASRNs are listed with leading zeros. Further, the leading zeros in the CASRN ordered list at 40 CFR 372.65(b) result in the chemicals appearing out of order.

The following chemicals all have leading zeros added to their CASRNs in the CFR in both the alphabetical list at 40 CFR 372.65(a) and the CASRN ordered list at 40 CFR 372.65(b). EPA proposes removing these leading zeroes from the CFR text for these chemicals.

Tetrabromobisphenol A (00079-94-7)

Benzo[g,h,i]perylene (00191-24-2)

Pentachlorobenzene (00608-93-5)

The following chemicals all have leading zeros added to their CASRNs in the alphabetical list at 40 CFR 372.65(a) only:

Vinyl fluoride (00075-02-5)

Nitromethane (00075-52-5)

Phenolphthalein (00077-09-8)

Isoprene (00078-79-5)

1-Amino-2,4-dibromoanthraquinone (00081-49-2)

o-Nitroanisole (00091-23-6)

Methyleugenol (00093-15-2)

Furan (00110-00-9)

Tetrafluoroethylene (00116-14-3)

Tetranitromethane (00509-14-8)

Glycidol (00556-52-5)

2,2-bis(Bromomethyl)-1,3-propanediol (003296-90-0)

o-Nitrotoluene (00088-72-2)

CASRNs with leading zeros also appear in some of the chemical categories listed at 40 CFR 372.65(c). This includes some members of the diisocyanates category (19 of 20), the dioxin and dioxin-like compounds category (2 of 17), and the polycyclic aromatic compounds category (22 of 25).

Diisocyanates category (members of the category whose CARSNs have leading zeros)

038661-72-2 1,3-Bis(methylisocyanate)cyclohexane

010347-54-3 1,4-Bis(methylisocyanate)cyclohexane

002556-36-7 1,4-Cyclohexane diisocyanate

004128-73-8 4,4′-Diisocyanatodiphenyl ether

075790-87-3 2,4′-Diisocyanatodiphenyl sulfide

000091-93-0 3,3′-Dimethoxybenzidine-4,4′-diisocyanate

000091-97-4 3,3′-Dimethyl-4,4′-diphenylene diisocyanate

000139-25-3 3,3′-Dimethyldiphenylmethane-4,4′-diisocyanate

000822-06-0 Hexamethylene-1,6-diisocyanate

004098-71-9 Isophorone diisocyanate

075790-84-0 4-Methyldiphenylmethane-3,4-diisocyanate

005124-30-1 1,1-Methylene bis(4-isocyanatocyclohexane)

000101-68-8 Methylenebis(phenylisocyanate) (MDI)

003173-72-6 1,5-Naphthalene diisocyanate

000123-61-5 1,3-Phenylene diisocyanate

000104-49-4 1,4-Phenylene diisocyanate

009016-87-9 Polymeric diphenylmethane diisocyanate

016938-22-0 2,2,4-Trimethylhexamethylene diisocyanate

015646-96-5 2,4,4-Trimethylhexamethylene diisocyanate

Dioxin and dioxin-like compounds category (members of the category whose CARSNs have leading zeros)

03268-87-9 1,2,3,4,6,7,8,9-Octachlorodibenzo-p-dioxin

01746-01-6 2,3,7,8-Tetrachlorodibenzo-p-dioxin

Polycyclic aromatic compounds category (members of the category whose CARSNs have leading zeros)

00056-55-3 Benz[a]anthracene

00218-01-9 Benzo[a]phenanthrene

00050-32-8 Benzo[a]pyrene

00205-99-2 Benzo[b]fluoranthene

00205-82-3 Benzo[j]fluoranthene

00207-08-9 Benzo[k]fluoranthene

00206-44-0 Benzo[j,k]fluorene

00189-55-9 Benzo[rst]pentaphene

00226-36-8 Dibenz[a,h]acridine

00224-42-0 Dibenz[a,j]acridine

00053-70-3 Dibenzo[a,h]anthracene

05385-75-1 Dibenzo[a,e]fluoranthene

00192-65-4 Dibenzo[a,e]pyrene

00189-64-0 Dibenzo[a,h]pyrene

00191-30-0 Dibenzo[a,l]pyrene

00194-59-2 7H-Dibenzo[c,g]carbazole

00057-97-6 7,12-Dimethylbenz[a]anthracene

00193-39-5 Indeno[1,2,3-cd]pyrene

00056-49-5 3-Methylcholanthrene

03697-24-3 5-Methylchrysene

07496-02-8 6-Nitrochrysene

05522-43-0 1-Nitropyrene

5. Correct errors in the list of lower thresholds for chemicals of special concern. In the CFR at 40 CFR 372.28(a)(2), there are two errors in the table for “Chemical categories in alphabetic order.” The entries for the hexabromocyclododecane (HBCD) and lead compounds categories are listed among the members of the dioxin and dioxin-like compounds category. The HBCD and lead compounds categories should appear after the entry for the dioxin and dioxin-like compounds category and before the entry for the mercury compounds category. EPA is proposing to fix the misplacements of the HBCD and lead compounds categories in the table at 40 CFR 372.28(a)(2) and make the table less confusing by listing only the chemical category names and not the individual members of the dioxin and dioxin-like compounds category, the HBCD category, and the polycyclic aromatic compounds category, which are listed in 40 CFR 372.65(c).

6. Revision of chemical names. The EPCRA section 313 chemical list, as it appears in 40 CFR 372.65(a) and (b), consists of a primary chemical name and in some cases a secondary chemical name listed as a synonym in brackets or parenthesis. Some of these secondary synonyms are other common chemical names or acronyms while others are the CAS preferred names. When the EPCRA section 313 chemical list was created through rulemaking, EPA indicated that for chemicals originally listed by Congress under a common trade name, EPA would also include the CAS preferred name in brackets next to the common trade name as a synonym (See 52 FR 21153, June 4, 1987 (proposed rule) and 53 FR 4513, February 16, 1988 (final rule)). At the time, EPA gave reporting facilities the option to include either name on the reporting form since the CASRN would be the unique identifier. However, this approach has not been consistently followed, resulting in many chemicals listed under a common trade name without their corresponding CAS preferred name as a synonym. In addition, the EPCRA section 313 electronic reporting system only allows reporting under the primary chemical name even if it is a common trade name. EPA is not aware of any issues concerning the use of common trade names as the primary chemical name for reporting, and the common trade name is often more familiar to the public. Therefore, EPA is proposing to revise the EPCRA section 313 chemical list by including only the primary chemical name, even if it is a common trade name, and removing most secondary names. The only secondary names that will remain are the EPA registry names from EPA's Substance Registry Services (SRS) (https://iaspub.epa.gov/sor_internet/registry/substreg/home/overview/home.do). Many of the EPCRA section 313 primary chemical names listed in 40 CFR 372.65(a) and (b) already match the EPA registry name or have the EPA registry name listed as a secondary name. There are 34 EPCRA section 313 primary names in 40 CFR 372.65(a) and (b) to which EPA is proposing to add the EPA registry name as a secondary name. There are also a few primary chemical names that will have minor edits (e.g., added dashes, commas, prefixes) to make them match the EPA registry name. While EPA is removing many of the current secondary names, these synonyms are still available in EPA's common synonyms document (available via the Toxic Chemical Release Inventory Reporting Forms and Instructions guidance document) and are linked to the primary chemical names in the TRI reporting software. The proposed revised chemical list is presented in the regulatory text section at the end of this notice. To see all the changes that were made, consult the changes document (Ref. 1). Note that EPA is also proposing to add the EPA registry name for 9 members of chemical categories in 40 CFR 372.65(c) whose primary name is different from the EPA registry name.

G. What changes are EPA proposing to make to the text of the de minimis definition?

In response to comments on the proposed rule to implement the reporting requirements of EPCRA section 313 (52 FR 21152, June 4, 1987), EPA established a de minimis concentration for mixtures and trade name products in the final rule (53 FR 4500, February 16, 1988). EPA applied a de minimis concentration limitation of 1 percent (or 0.1 percent if the chemical is a carcinogen) consistent with the OSHA Hazard Communications Standard (HCS) in 29 CFR 1910.1200. The “De minimis concentrations of a toxic chemical in a mixture” was codified under the Exemptions section at 40 CFR 372.38(a) to provide that if a toxic chemical is present in a mixture of chemicals at a covered facility and the toxic chemical is in a concentration in the mixture which is below 1 percent of the mixture, or 0.1 percent of the mixture in the case of a toxic chemical which is a carcinogen as defined in 29 CFR 1910.1200(d)(4), a person is not required to consider the quantity of the toxic chemical present in such mixture when determining whether an applicable threshold has been met under § 372.25 or determining the amount of release to be reported under § 372.30.

To incorporate the OSHA carcinogen definition, the text of the de minimis exemption cross-references a specific OSHA regulatory provision (i.e., 29 CFR 1910.1200(d)(4)), which then-stated that chemical manufacturers, importers and employers evaluating chemicals shall treat the following sources as establishing that a chemical is a carcinogen or potential carcinogen for hazard communication purposes:

• National Toxicology Program (NTP), Annual Report on Carcinogens (latest edition);

• International Agency for Research on Cancer (IARC) Monographs (latest editions); or

• 29 CFR part 1910, subpart Z, Toxic and Hazardous Substances, Occupational Safety and Health Administration.

In 2012, however, OSHA revised its hazard communication standard. OSHA altered the location and, to some degree, the substance of the definition of “carcinogen,” and completely removed 29 CFR 1910.1200(d)(4) from the CFR (58 FR 17574, March 26, 2012). The “old” OSHA definition currently resides in substantively unchanged (although not identical) language, now as an optional alternative definition, in part A.6.4 of appendix A to 29 CFR 1910.1200. Thus, the current de minimis exemption at 40 CFR 372.38(a) cross-references a regulatory citation that no longer exists. To be consistent with the past carcinogen definition used for EPCRA section 313 de minimis determinations and to maintain the status quo, EPA is proposing to incorporate the previous definition from 29 CFR 1910.1200(d)(4) into the ECPRA section 313 regulations at 40 CFR 372.38(a). EPA proposes to replace the existing cross-referenced regulatory citation and modify the text to read as set out in the regulatory text below.

The addition of this language will result in no changes to the way that carcinogens are defined for purposes of EPCRA section 313 de minimis determinations.

III. References

EPA has established an official public docket for this action under Docket ID No. EPA-HQ-TRI-2019-0146. The public docket includes information considered by EPA in developing this action, including the documents listed below, which are electronically or physically located in the docket.

USEPA. Proposed Changes to the Toxic Release Inventory (TRI) Chemical List, March 18, 2019.

IV. Statutory and Executive Order Reviews

Additional information about these statutes and Executive Orders can be found at http://www2.epa.gov/laws-regulations/laws-and-executive-orders.

A. Executive Order 12866: Regulatory Planning and Review and Executive Order 13563: Improving Regulation and Regulatory Review

This action is not a significant regulatory action and was therefore not submitted to the Office of Management and Budget (OMB) for review under Executive Orders 12866 (58 FR 51735, October 4, 1993) and 13563 (76 FR 3821, January 21, 2011).

B. Executive Order 13771: Reducing Regulations and Controlling Regulatory Costs

This action is not expected to be an Executive Order 13771 (82 FR 9339) regulatory action because this action is not significant under Executive Order 12866.

C. Paperwork Reduction Act (PRA)

This action does not impose any new information collection burden. Facilities that are affected by this action are already required to report for the chemicals impacted by this action under EPCRA section 313 and section 6607 of the Pollution Prevention Act (PPA), 42 U.S.C. 13101 et seq. OMB has previously approved the information collection requirements contained in 40 CFR part 372 under the provisions of the PRA, 44 U.S.C. 3501 et seq., and has assigned OMB control number 2025-0009 (EPA ICR No. 1363.21) for Form R and Form A.

Under the PRA, an agency may not conduct or sponsor, and a person is not required to respond to, a collection of information unless it displays a currently valid OMB control number. The OMB control numbers are displayed either by publication in the Federal Register or by other appropriate means, such as on the related collection instrument or form, if applicable. The OMB control numbers for EPA's regulations in 40 CFR are listed in 40 CFR part 9.

D. Regulatory Flexibility Act (RFA)

Pursuant to the RFA section 605(b), 5 U.S.C. 601 et seq., I certify that this action will not have a significant economic impact on a substantial number of small entities. In making this determination, the impact of concern is any significant adverse economic impact on small entities. An agency may certify that a rule will not have a significant economic impact on a substantial number of small entities if the rule relieves regulatory burden, has no net burden or otherwise has a positive economic effect on the small entities subject to the rule. This proposed rule adds no new reporting requirements, and there would be no increase in respondent burden or costs. This proposed rule will not impose any requirements on reporting entities, including small entities.

E. Unfunded Mandates Reform Act (UMRA)

This action does not contain any unfunded mandate as described in UMRA, 2 U.S.C. 1531-1538, and does not significantly or uniquely affect small governments. The action would impose no enforceable duty on any state, local or tribal governments or the private sector.

F. Executive Order 13132: Federalism

This action does not have federalism implications, as specified in Executive Order 13132 (64 FR 43255, August 10, 1999). It will not have substantial direct effects on the states, on the relationship between the National Government and the states, or on the distribution of power and responsibilities among the various levels of government.

G. Executive Order 13175: Consultation and Coordination With Indian Tribal Governments

This action does not have tribal implications as specified in Executive Order 13175 (65 FR 67249, November 9, 2000). This proposed rule will not impose substantial direct compliance costs on Indian tribal governments. Thus, Executive Order 13175 does not apply to this action.

H. Executive Order 13045: Protection of Children From Environmental Health Risks and Safety Risks

EPA interprets Executive Order 13045 (62 FR 19885, April 23, 1997), as applying only to those regulatory actions that concern health or safety risks, such that the analysis required under section 5-501 of Executive Order 13045 has the potential to influence the regulation. This action is not subject to Executive Order 13045 because it does not establish an environmental standard intended to mitigate health or safety risks.

I. Executive Order 13211: Actions Concerning Regulations That Significantly Affect Energy Supply, Distribution, or Use

This action is not a “significant energy action” as defined in Executive Order 13211 (66 FR 28355, May 22, 2001), because it is not likely to have a significant adverse effect on the supply, distribution or use of energy.

J. National Technology Transfer and Advancement Act (NTTAA)

This rulemaking does not involve technical standards that would require Agency consideration under NTTAA section 12(d), 15 U.S.C. 272 note.

K. Executive Order 12898: Federal Actions To Address Environmental Justice in Minority Populations and Low-Income Populations

This action does not entail special considerations of environmental justice related issues as delineated by Executive Order 12898 (59 FR 7629, February 16, 1994), because it does not establish an environmental health or safety standard. This action involves corrections that do not change the reporting requirements or otherwise affect the level of protection provided to human health or the environment.

List of Subjects in 40 CFR Part 372

Environmental protection, Community right-to-know, Reporting and recordkeeping requirements, Toxic chemicals.

Dated: November 18, 2019.
Alexandra Dapolito Dunn,
Assistant Administrator, Office of Chemical Safety and Pollution Prevention.

Therefore, EPA proposes to amend 40 CFR chapter I as follows:

PART 372—[AMENDED]

1. The authority citation for part 372 continues to read as follows:

Authority: 42 U.S.C. 11023 and 11048.

2. In § 372.28(a)(2), add a heading for the table and revise the table to read as follows:

§ 372.28 Lower thresholds for chemicals of special concern.

* * * * *

(a) * * *

(2) * * *

Table 1 to Paragraph (a)(2)
Category name | Reporting threshold (in pounds unless otherwise noted)
Dioxin and dioxin-like compounds (Manufacturing; and the processing or otherwise use of dioxin and dioxin-like compounds if the dioxin and dioxin-like compounds are present as contaminants in a chemical and if they were created during the manufacturing of that chemical) (see § 372.65(c) for a list of chemicals covered by this category) | 0.1 grams.
Hexabromocyclododecane (see § 372.65(c) for a list of chemicals covered by this category) | 100.
Lead Compounds | 100.
Mercury compounds | 10.
Polycyclic aromatic compounds (PACs) (see § 372.65(c) for a list of chemicals covered by this category) | 100.

* * * * *

3. In § 372.38, revise paragraph (a) to read as follows:

§ 372.38 Exemptions.

(a) De minimis concentrations of a toxic chemical in a mixture. (1) If a toxic chemical is present in a mixture of chemicals at a covered facility and the toxic chemical is in a concentration in the mixture which is below 1 percent of the mixture, or 0.1 percent of the mixture in the case of a toxic chemical which is a carcinogen, a person is not required to consider the quantity of the toxic chemical present in such mixture when determining whether an applicable threshold has been met under § 372.25 or determining the amount of release to be reported under § 372.30. For purposes of the exemption in this paragraph (a), the following sources establish a chemical as a carcinogen or potential carcinogen:

(i) National Toxicology Program (NTP), Annual Report on Carcinogens (latest edition);

(ii) International Agency for Research on Cancer (IARC) Monographs (latest editions); or

(iii) 29 CFR part 1910, subpart Z, Toxic and Hazardous Substances, Occupational Safety and Health Administration.

(2) The exemption in this paragraph (a) applies whether the person received the mixture from another person or the person produced the mixture, either by mixing the chemicals involved or by causing a chemical reaction which resulted in the creation of the toxic chemical in the mixture. However, this exemption applies only to the quantity of the toxic chemical present in the mixture. If the toxic chemical is also manufactured (including imported), processed, or otherwise used at the covered facility other than as part of the mixture or in a mixture at higher concentrations, in excess of an applicable threshold quantity set forth in § 372.25, the person is required to report under § 372.30. This exemption does not apply to toxic chemicals listed in § 372.28, except for purposes of § 372.45(d)(1).

* * * * *

4. In § 372.65:

a. Add a heading for the table and revise the table in paragraph (a).

b. Add a heading for the table and revise the table in paragraph (b).

c. Add a heading for the table and revise the table in paragraph (c).

The revisions read as follows:

§ 372.65 Chemicals and chemical categories to which this part applies.

* * * * *

(a) * * *

Table 1 to Paragraph (a)
Chemical name | CAS No. | Effective date
Abamectin | 71751-41-2 | 1/1/95
Acephate | 30560-19-1 | 1/1/95
Acetaldehyde | 75-07-0 | 1/1/87
Acetamide | 60-35-5 | 1/1/87
Acetonitrile | 75-05-8 | 1/1/87
Acetophenone | 98-86-2 | 1/1/94
2-Acetylaminofluorene | 53-96-3 | 1/1/87
Acifluorfen, sodium salt | 62476-59-9 | 1/1/95
Acrolein | 107-02-8 | 1/1/87
Acrylamide | 79-06-1 | 1/1/87
Acrylic acid | 79-10-7 | 1/1/87
Acrylonitrile | 107-13-1 | 1/1/87
Alachlor | 15972-60-8 | 1/1/95
Aldicarb | 116-06-3 | 1/1/95
Aldrin | 309-00-2 | 1/1/87
d-trans-Allethrin | 28434-00-6 | 1/1/95
Allyl alcohol | 107-18-6 | 1/1/90
Allylamine | 107-11-9 | 1/1/95
Allyl chloride | 107-05-1 | 1/1/87
Aluminum (fume or dust) | 7429-90-5 | 1/1/87
Aluminum oxide (fibrous forms) (Alumina) | 1344-28-1 | 1/1/87
Aluminum phosphide | 20859-73-8 | 1/1/95
Ametryn | 834-12-8 | 1/1/95
2-Aminoanthraquinone | 117-79-3 | 1/1/87
4-Aminoazobenzene | 60-09-3 | 1/1/87
4-Aminobiphenyl | 92-67-1 | 1/1/87
1-Amino-2,4-dibromoanthraquinone | 81-49-2 | 1/1/11
1-Amino-2-methylanthraquinone | 82-28-0 | 1/1/87
Amitraz | 33089-61-1 | 1/1/95
Amitrole | 61-82-5 | 1/1/94
Ammonia (includes anhydrous ammonia and aqueous ammonia from water dissociable ammonium salts and other sources; 10 percent of total aqueous ammonia is reportable under this listing) | 7664-41-7 | 1/1/87
Anilazine | 101-05-3 | 1/1/95
Aniline | 62-53-3 | 1/1/87
o-Anisidine | 90-04-0 | 1/1/87
p-Anisidine | 104-94-9 | 1/1/87
o-Anisidine hydrochloride | 134-29-2 | 1/1/87
Anthracene | 120-12-7 | 1/1/87
Antimony | 7440-36-0 | 1/1/87
Arsenic | 7440-38-2 | 1/1/87
Asbestos (friable) | 1332-21-4 | 1/1/87
Atrazine | 1912-24-9 | 1/1/95
Barium | 7440-39-3 | 1/1/87
Bendiocarb | 22781-23-3 | 1/1/95
Benfluralin | 1861-40-1 | 1/1/95
Benomyl | 17804-35-2 | 1/1/95
Benzal chloride | 98-87-3 | 1/1/87
Benzamide | 55-21-0 | 1/1/87
Benzene | 71-43-2 | 1/1/87
Benzidine | 92-87-5 | 1/1/87
Benzo[g,h,i]perylene | 191-24-2 | 1/1/00
Benzoic trichloride (Benzotrichloride) | 98-07-7 | 1/1/87
Benzoyl chloride | 98-88-4 | 1/1/87
Benzoyl peroxide | 94-36-0 | 1/1/87
Benzyl chloride | 100-44-7 | 1/1/87
Beryllium | 7440-41-7 | 1/1/87
Bifenthrin | 82657-04-3 | 1/1/95
Biphenyl | 92-52-4 | 1/1/87
2,2-Bis(bromomethyl)-1,3-propanediol | 3296-90-0 | 1/1/11
Bis(2-chloroethoxy)methane | 111-91-1 | 1/1/94
Bis(2-chloroethyl) ether | 111-44-4 | 1/1/87
Bis(chloromethyl) ether | 542-88-1 | 1/1/87
Bis(2-chloro-1-methylethyl) ether | 108-60-1 | 1/1/87
Bis(tributyltin) oxide | 56-35-9 | 1/1/95
Boron trichloride | 10294-34-5 | 1/1/95
Boron trifluoride | 7637-07-2 | 1/1/95
Bromacil | 314-40-9 | 1/1/95
Bromacil, lithium salt | 53404-19-6 | 1/1/95
Bromine | 7726-95-6 | 1/1/95
1-Bromo-1-(bromomethyl)-1,3-propanedicarbonitrile | 35691-65-7 | 1/1/95
Bromochlorodifluoromethane (Halon 1211) | 353-59-3 | 7/8/90
Bromoform (Tribromomethane) | 75-25-2 | 1/1/87
Bromomethane (Methyl bromide) | 74-83-9 | 1/1/87
1-Bromopropane | 106-94-5 | 1/1/16
Bromotrifluoromethane (Halon 1301) | 75-63-8 | 7/8/90
Bromoxynil | 1689-84-5 | 1/1/95
Bromoxynil octanoate | 1689-99-2 | 1/1/95
Brucine | 357-57-3 | 1/1/95
1,3-Butadiene | 106-99-0 | 1/1/87
Butyl acrylate | 141-32-2 | 1/1/87
n-Butyl alcohol (1-Butanol) | 71-36-3 | 1/1/87
sec-Butyl alcohol (2-Butanol) | 78-92-2 | 1/1/87
tert-Butyl alcohol (tert-Butanol) | 75-65-0 | 1/1/87
1,2-Butylene oxide | 106-88-7 | 1/1/87
Butyraldehyde | 123-72-8 | 1/1/87
C.I. Acid Green 3 | 4680-78-8 | 1/1/87
C.I. Acid Red 114 | 6459-94-5 | 1/1/95
C.I. Basic Green 4 (Malachite green) | 569-64-2 | 1/1/87
C.I. Basic Red 1 | 989-38-8 | 1/1/87
C.I. Direct Black 38 | 1937-37-7 | 1/1/87
C.I. Direct Blue 6 | 2602-46-2 | 1/1/87
C.I. Direct Blue 218 | 28407-37-6 | 1/1/95
C.I. Direct Brown 95 | 16071-86-6 | 1/1/87
C.I. Disperse Yellow 3 | 2832-40-8 | 1/1/87
C.I. Food Red 5 | 3761-53-3 | 1/1/87
C.I. Food Red 15 (Rhodamine B) | 81-88-9 | 1/1/87
C.I. Solvent Orange 7 | 3118-97-6 | 1/1/87
C.I. Solvent Yellow 3 | 97-56-3 | 1/1/87
C.I. Solvent Yellow 14 | 842-07-9 | 1/1/87
C.I. Solvent Yellow 34 (Auramine) | 492-80-8 | 1/1/87
C.I. Vat Yellow 4 | 128-66-5 | 1/1/87
Cadmium | 7440-43-9 | 1/1/87
Calcium cyanamide | 156-62-7 | 1/1/87
Captan | 133-06-2 | 1/1/87
Carbaryl | 63-25-2 | 1/1/87
Carbofuran | 1563-66-2 | 1/1/95
Carbon disulfide | 75-15-0 | 1/1/87
Carbon tetrachloride | 56-23-5 | 1/1/87
Carbonyl sulfide | 463-58-1 | 1/1/87
Carboxin | 5234-68-4 | 1/1/95
Catechol | 120-80-9 | 1/1/87
Chinomethionate | 2439-01-2 | 1/1/95
Chloramben | 133-90-4 | 1/1/87
Chlordane | 57-74-9 | 1/1/87
Chlorendic acid | 115-28-6 | 1/1/95
Chlorimuron-ethyl | 90982-32-4 | 1/1/95
Chlorine | 7782-50-5 | 1/1/87
Chlorine dioxide | 10049-04-4 | 1/1/87
Chloroacetic acid | 79-11-8 | 1/1/87
2-Chloroacetophenone | 532-27-4 | 1/1/87
1-(3-Chloroallyl)-3,5,7-triaza-1-azoniaadamantane chloride | 4080-31-3 | 1/1/95
p-Chloroaniline | 106-47-8 | 1/1/95
Chlorobenzene | 108-90-7 | 1/1/87
Chlorobenzilate | 510-15-6 | 1/1/87
1-Chloro-1,1-difluoroethane (HCFC-142b) | 75-68-3 | 1/1/94
Chlorodifluoromethane (HCFC-22) | 75-45-6 | 1/1/94
Chloroethane | 75-00-3 | 1/1/87
Chloroform | 67-66-3 | 1/1/87
Chloromethane | 74-87-3 | 1/1/87
Chloromethyl methyl ether | 107-30-2 | 1/1/87
3-Chloro-2-methyl-1-propene | 563-47-3 | 1/1/95
p-Chlorophenyl isocyanate | 104-12-1 | 1/1/95
Chloropicrin | 76-06-2 | 1/1/95
Chloroprene | 126-99-8 | 1/1/87
3-Chloropropionitrile | 542-76-7 | 1/1/95
Chlorotetrafluoroethane | 63938-10-3 | 1/1/94
1-Chloro-1,1,2,2-tetrafluoroethane (HCFC-124a) | 354-25-6 | 1/1/94
2-Chloro-1,1,1,2-tetrafluoroethane (HCFC-124) | 2837-89-0 | 1/1/94
Chlorothalonil | 1897-45-6 | 1/1/87
p-Chloro-o-toluidine (4-Chloro-2-methylaniline) | 95-69-2 | 1/1/95
2-Chloro-1,1,1-trifluoroethane (HCFC-133a) | 75-88-7 | 1/1/95
Chlorotrifluoromethane (CFC-13) | 75-72-9 | 1/1/95
3-Chloro-1,1,1-trifluoropropane (HCFC-253fb) | 460-35-5 | 1/1/95
Chlorpyrifos-methyl | 5598-13-0 | 1/1/95
Chlorsulfuron | 64902-72-3 | 1/1/95
Chromium | 7440-47-3 | 1/1/87
Cobalt | 7440-48-4 | 1/1/87
Copper | 7440-50-8 | 1/1/87
Creosote | 8001-58-9 | 1/1/90
p-Cresidine | 120-71-8 | 1/1/87
Cresol (mixed isomers) | 1319-77-3 | 1/1/87
m-Cresol | 108-39-4 | 1/1/87
o-Cresol | 95-48-7 | 1/1/87
p-Cresol | 106-44-5 | 1/1/87
Crotonaldehyde | 4170-30-3 | 1/1/95
Cumene | 98-82-8 | 1/1/87
Cumene hydroperoxide | 80-15-9 | 1/1/87
Cupferron | 135-20-6 | 1/1/87
Cyanazine | 21725-46-2 | 1/1/95
Cycloate | 1134-23-2 | 1/1/95
Cyclohexane | 110-82-7 | 1/1/87
Cyclohexanol | 108-93-0 | 1/1/95
Cyfluthrin | 68359-37-5 | 1/1/95
Cyhalothrin | 68085-85-8 | 1/1/95
2,4-D | 94-75-7 | 1/1/87
Dazomet | 533-74-4 | 1/1/95
Dazomet, sodium salt | 53404-60-7 | 1/1/95
2,4-DB | 94-82-6 | 1/1/95
2,4-D 2-butoxyethyl ester | 1929-73-3 | 1/1/95
2,4-D butyl ester | 94-80-4 | 1/1/95
2,4-D chlorocrotyl ester | 2971-38-2 | 1/1/95
Decabromodiphenyl oxide | 1163-19-5 | 1/1/87
Desmedipham | 13684-56-5 | 1/1/95
2,4-D 2-ethylhexyl ester | 1928-43-4 | 1/1/95
2,4-D 2-ethyl-4-methylpentyl ester | 53404-37-8 | 1/1/95
Diallate | 2303-16-4 | 1/1/87
2,4-Diaminoanisole | 615-05-4 | 1/1/87
2,4-Diaminoanisole sulfate | 39156-41-7 | 1/1/87
4,4′-Diaminodiphenyl ether | 101-80-4 | 1/1/87
Diaminotoluene (mixed isomers) (Toluenediamine) | 25376-45-8 | 1/1/87
2,4-Diaminotoluene (2,4-Toluenediamine) | 95-80-7 | 1/1/87
Diazinon | 333-41-5 | 1/1/95
Diazomethane | 334-88-3 | 1/1/87
Dibenzofuran | 132-64-9 | 1/1/87
1,2-Dibromo-3-chloropropane | 96-12-8 | 1/1/87
2,2-Dibromo-3-nitrilopropionamide ¹ | 10222-01-2 | 1/1/95
1,2-Dibromoethane (Ethylene dibromide) | 106-93-4 | 1/1/87
Dibromotetrafluoroethane (1,2-Dibromo-1,1,2,2-tetrafluoroethane) | 124-73-2 | 7/8/90
Dibutyl phthalate | 84-74-2 | 1/1/87
Dicamba | 1918-00-9 | 1/1/95
Dichloran | 99-30-9 | 1/1/95
Dichlorobenzene (mixed isomers) | 25321-22-6 | 1/1/87
1,2-Dichlorobenzene (o-Dichlorobenzene) | 95-50-1 | 1/1/87
1,3-Dichlorobenzene (m-Dichlorobenzene) | 541-73-1 | 1/1/87
1,4-Dichlorobenzene (p-Dichlorobenzene) | 106-46-7 | 1/1/87
3,3′-Dichlorobenzidine | 91-94-1 | 1/1/87
3,3′-Dichlorobenzidine dihydrochloride | 612-83-9 | 1/1/95
3,3′-Dichlorobenzidine sulfate | 64969-34-2 | 1/1/95
Dichlorobromomethane | 75-27-4 | 1/1/87
1,4-Dichloro-2-butene | 764-41-0 | 1/1/94
trans-1,4-Dichloro-2-butene | 110-57-6 | 1/1/95
1,2-Dichloro-1,1-difluoroethane (HCFC-132b) | 1649-08-7 | 1/1/95
Dichlorodifluoromethane (CFC-12) | 75-71-8 | 7/8/90
1,2-Dichloroethane | 107-06-2 | 1/1/87
1,2-Dichloroethylene | 540-59-0 | 1/1/87
1,1-Dichloro-1-fluoroethane (HCFC-141b) | 1717-00-6 | 1/1/94
Dichlorofluoromethane (HCFC-21) | 75-43-4 | 1/1/95
Dichloromethane (Methylene chloride) | 75-09-2 | 1/1/87
Dichloropentafluoropropane | 127564-92-5 | 1/1/95
1,1-Dichloro-1,2,2,3,3-pentafluoropropane (HCFC-225cc) | 13474-88-9 | 1/1/95
1,1-Dichloro-1,2,3,3,3-pentafluoropropane (HCFC-225eb) | 111512-56-2 | 1/1/95
1,2-Dichloro-1,1,2,3,3-pentafluoropropane (HCFC-225bb) | 422-44-6 | 1/1/95
1,2-Dichloro-1,1,3,3,3-pentafluoropropane (HCFC-225da) | 431-86-7 | 1/1/95
1,3-Dichloro-1,1,2,2,3-pentafluoropropane (HCFC-225cb) | 507-55-1 | 1/1/95
1,3-Dichloro-1,1,2,3,3-pentafluoropropane (HCFC-225ea) | 136013-79-1 | 1/1/95
2,2-Dichloro-1,1,1,3,3-pentafluoropropane (HCFC-225aa) | 128903-21-9 | 1/1/95
2,3-dichloro-1,1,1,2,3-pentafluoropropane (HCFC-225ba) | 422-48-0 | 1/1/95
3,3-Dichloro-1,1,1,2,2-pentafluoropropane (HCFC-225ca) | 422-56-0 | 1/1/95
Dichlorophene | 97-23-4 | 1/1/95
2,4-Dichlorophenol | 120-83-2 | 1/1/87
1,2-Dichloropropane | 78-87-5 | 1/1/87
2,3-Dichloropropene | 78-88-6 | 1/1/90
trans-1,3-Dichloropropene | 10061-02-6 | 1/1/95
1,3-Dichloropropylene (1,3-Dichloropropene) | 542-75-6 | 1/1/87
Dichlorotetrafluoroethane (CFC-114) | 76-14-2 | 7/8/90
Dichlorotrifluoroethane | 34077-87-7 | 1/1/94
Dichloro-1,1,2-trifluoroethane | 90454-18-5 | 1/1/94
1,1-Dichloro-1,2,2-trifluoroethane (HCFC-123b) | 812-04-4 | 1/1/94
1,2-Dichloro-1,1,2-trifluoroethane (HCFC-123a) | 354-23-4 | 1/1/94
2,2-Dichloro-1,1,1-trifluoroethane (HCFC-123) | 306-83-2 | 1/1/94
Dichlorvos | 62-73-7 | 1/1/87
Diclofop methyl | 51338-27-3 | 1/1/95
Dicofol | 115-32-2 | 1/1/87
Dicyclopentadiene | 77-73-6 | 1/1/95
Diepoxybutane | 1464-53-5 | 1/1/87
Diethanolamine | 111-42-2 | 1/1/87
Diethatyl ethyl | 38727-55-8 | 1/1/95
Di(2-ethylhexyl) phthalate | 117-81-7 | 1/1/87
Diethyl sulfate | 64-67-5 | 1/1/87
Diflubenzuron | 35367-38-5 | 1/1/95
Diglycidyl resorcinol ether | 101-90-6 | 1/1/95
Dihydrosafrole | 94-58-6 | 1/1/94
Dimethipin | 55290-64-7 | 1/1/95
Dimethoate | 60-51-5 | 1/1/95
3,3′-Dimethoxybenzidine | 119-90-4 | 1/1/87
3,3′-Dimethoxybenzidine dihydrochloride | 20325-40-0 | 1/1/95
3,3′-Dimethoxybenzidine monohydrochloride | 111984-09-9 | 1/1/95
Dimethylamine | 124-40-3 | 1/1/95
Dimethylamine dicamba | 2300-66-5 | 1/1/95
4-Dimethylaminoazobenzene | 60-11-7 | 1/1/87
N,N-Dimethylaniline | 121-69-7 | 1/1/87
3,3′-Dimethylbenzidine | 119-93-7 | 1/1/87
3,3′-Dimethylbenzidine dihydrochloride | 612-82-8 | 1/1/95
3,3′-Dimethylbenzidine dihydrofluoride | 41766-75-0 | 1/1/95
Dimethylcarbamoyl chloride | 79-44-7 | 1/1/87
Dimethyl chlorothiophosphate | 2524-03-0 | 1/1/95
N,N-Dimethylformamide | 68-12-2 | 1/1/95
1,1-Dimethylhydrazine | 57-14-7 | 1/1/87
2,4-Dimethylphenol | 105-67-9 | 1/1/87
Dimethyl phthalate | 131-11-3 | 1/1/87
Dimethyl sulfate | 77-78-1 | 1/1/87
m-Dinitrobenzene | 99-65-0 | 1/1/90
o-Dinitrobenzene | 528-29-0 | 1/1/90
p-Dinitrobenzene | 100-25-4 | 1/1/90
Dinitrobutyl phenol (Dinoseb) | 88-85-7 | 1/1/95
4,6-Dinitro-o-cresol | 534-52-1 | 1/1/87
2,4-Dinitrophenol | 51-28-5 | 1/1/87
2,4-Dinitrotoluene | 121-14-2 | 1/1/87
2,6-Dinitrotoluene | 606-20-2 | 1/1/87
Dinitrotoluene (mixed isomers) | 25321-14-6 | 1/1/90
Dinocap | 39300-45-3 | 1/1/95
1,4-Dioxane | 123-91-1 | 1/1/87
Diphenamid | 957-51-7 | 1/1/95
Diphenylamine | 122-39-4 | 1/1/95
1,2-Diphenylhydrazine | 122-66-7 | 1/1/87
Dipotassium endothall | 2164-07-0 | 1/1/95
Dipropyl isocinchomeronate | 136-45-8 | 1/1/95
Disodium cyanodithioimidocarbonate | 138-93-2 | 1/1/95
2,4-D isopropyl ester | 94-11-1 | 1/1/95
2,4-Dithiobiuret (Dithiobiuret) | 541-53-7 | 1/1/95
Diuron | 330-54-1 | 1/1/95
Dodine | 2439-10-3 | 1/1/95
2,4-DP (Dichlorprop) | 120-36-5 | 1/1/95
2,4-D propylene glycol butyl ether ester (2,4-D 2-butoxymethylethyl ester) | 1320-18-9 | 1/1/95
2,4-D sodium salt | 2702-72-9 | 1/1/95
Epichlorohydrin | 106-89-8 | 1/1/87
Ethoprop | 13194-48-4 | 1/1/95
2-Ethoxyethanol | 110-80-5 | 1/1/87
Ethyl acrylate | 140-88-5 | 1/1/87
Ethylbenzene | 100-41-4 | 1/1/87
Ethyl chloroformate | 541-41-3 | 1/1/87
S-Ethyl dipropylthiocarbamate | 759-94-4 | 1/1/95
Ethylene | 74-85-1 | 1/1/87
Ethylene glycol | 107-21-1 | 1/1/87
Ethyleneimine (Aziridine) | 151-56-4 | 1/1/87
Ethylene oxide | 75-21-8 | 1/1/87
Ethylene thiourea | 96-45-7 | 1/1/87
Ethylidene dichloride (1,1-Dichloroethane) | 75-34-3 | 1/1/94
Famphur | 52-85-7 | 1/1/95
Fenarimol | 60168-88-9 | 1/1/95
Fenbutatin oxide | 13356-08-6 | 1/1/95
Fenoxaprop-ethyl | 66441-23-4 | 1/1/95
Fenoxycarb | 72490-01-8 | 1/1/95
Fenpropathrin | 39515-41-8 | 1/1/95
Fenthion | 55-38-9 | 1/1/95
Fenvalerate | 51630-58-1 | 1/1/95
Ferbam | 14484-64-1 | 1/1/95
Fluazifop-butyl | 69806-50-4 | 1/1/95
Fluometuron | 2164-17-2 | 1/1/87
Fluorine | 7782-41-4 | 1/1/95
Fluorouracil (5-Fluorouracil) | 51-21-8 | 1/1/95
Fluvalinate | 69409-94-5 | 1/1/95
Folpet | 133-07-3 | 1/1/95
Fomesafen | 72178-02-0 | 1/1/95
Formaldehyde | 50-00-0 | 1/1/87
Formic acid | 64-18-6 | 1/1/94
Freon 113 (CFC-113) | 76-13-1 | 1/1/87
Furan | 110-00-9 | 1/1/11
Glycidol | 556-52-5 | 1/1/11
Heptachlor | 76-44-8 | 1/1/87
Hexachlorobenzene | 118-74-1 | 1/1/87
Hexachloro-1,3-butadiene (Hexachlorobutadiene) | 87-68-3 | 1/1/87
alpha-Hexachlorocyclohexane | 319-84-6 | 1/1/95
Hexachlorocyclopentadiene | 77-47-4 | 1/1/87
Hexachloroethane | 67-72-1 | 1/1/87
Hexachloronaphthalene | 1335-87-1 | 1/1/87
Hexachlorophene | 70-30-4 | 1/1/94
Hexamethylphosphoramide | 680-31-9 | 1/1/87
n-Hexane (Hexane) | 110-54-3 | 1/1/95
Hexazinone | 51235-04-2 | 1/1/95
Hydramethylnon | 67485-29-4 | 1/1/95
Hydrazine | 302-01-2 | 1/1/87
Hydrazine sulfate (1:1) | 10034-93-2 | 1/1/87
Hydrochloric acid (acid aerosols including mists, vapors, gas, fog, and other airborne forms of any particle size) | 7647-01-0 | 1/1/87
Hydrogen cyanide | 74-90-8 | 1/1/87
Hydrogen fluoride (Hydrofluoric acid) | 7664-39-3 | 1/1/87
Hydrogen sulfide | 7783-06-4 | 1/1/94
Hydroquinone | 123-31-9 | 1/1/87
Imazalil | 35554-44-0 | 1/1/95
3-Iodo-2-propynyl butylcarbamate | 55406-53-6 | 1/1/95
Iron pentacarbonyl | 13463-40-6 | 1/1/95
Isobutyraldehyde | 78-84-2 | 1/1/87
Isodrin | 465-73-6 | 1/1/95
Isofenphos | 25311-71-1 | 1/1/95
Isoprene | 78-79-5 | 1/1/11
Isopropyl alcohol (Isopropanol) (only persons who manufacture by the strong acid process are subject, no supplier notification) | 67-63-0 | 1/1/87
4,4′-Isopropylidenediphenol | 80-05-7 | 1/1/87
Isosafrole | 120-58-1 | 1/1/90
Lactofen | 77501-63-4 | 1/1/95
Lead | 7439-92-1 | 1/1/87
Lindane | 58-89-9 | 1/1/87
Linuron | 330-55-2 | 1/1/95
Lithium carbonate | 554-13-2 | 1/1/95
Malathion | 121-75-5 | 1/1/95
Maleic anhydride | 108-31-6 | 1/1/87
Malononitrile | 109-77-3 | 1/1/94
Maneb | 12427-38-2 | 1/1/87
Manganese | 7439-96-5 | 1/1/87
Mecoprop | 93-65-2 | 1/1/95
2-Mercaptobenzothiazole | 149-30-4 | 1/1/95
Mercury | 7439-97-6 | 1/1/87
Merphos | 150-50-5 | 1/1/95
Methacrylonitrile | 126-98-7 | 1/1/94
Metham sodium (Sodium methyldithiocarbamate) | 137-42-8 | 1/1/95
Methanol | 67-56-1 | 1/1/87
Methazole | 20354-26-1 | 1/1/95
Methiocarb | 2032-65-7 | 1/1/95
Methoxone (MCPA) | 94-74-6 | 1/1/95
Methoxone sodium salt | 3653-48-3 | 1/1/95
Methoxychlor | 72-43-5 | 1/1/87
2-Methoxyethanol | 109-86-4 | 1/1/87
Methyl acrylate | 96-33-3 | 1/1/87
Methyl tert-butyl ether | 1634-04-4 | 1/1/87
Methyl chlorocarbonate | 79-22-1 | 1/1/94
4,4′-Methylenebis(2-chloroaniline) | 101-14-4 | 1/1/87
4,4′-Methylenebis(N,N-dimethyl)benzenamine (4,4′-Methylenebis[N,N-dimethylaniline]) | 101-61-1 | 1/1/87
Methylene bromide (Dibromomethane) | 74-95-3 | 1/1/87
4,4′-Methylenedianiline | 101-77-9 | 1/1/87
Methyleugenol | 93-15-2 | 1/1/11
Methyl hydrazine | 60-34-4 | 1/1/87
Methyl iodide | 74-88-4 | 1/1/87
Methyl isobutyl ketone | 108-10-1 | 1/1/87
Methyl isocyanate | 624-83-9 | 1/1/87
Methyl isothiocyanate | 556-61-6 | 1/1/95
2-Methyllactonitrile (Acetone cyanohydrin) | 75-86-5 | 1/1/95
Methyl mercaptan ² | 74-93-1 | 1/1/94
Methyl methacrylate | 80-62-6 | 1/1/87
N-Methylolacrylamide | 924-42-5 | 1/1/95
Methyl parathion | 298-00-0 | 1/1/95
2-Methylpyridine | 109-06-8 | 1/1/94
N-Methyl-2-pyrrolidone | 872-50-4 | 1/1/95
Metiram | 9006-42-2 | 1/1/95
Metribuzin | 21087-64-9 | 1/1/95
Mevinphos | 7786-34-7 | 1/1/95
Michler's ketone | 90-94-8 | 1/1/87
Molinate | 2212-67-1 | 1/1/95
Molybdenum trioxide | 1313-27-5 | 1/1/87
Monochloropentafluoroethane (CFC-115) | 76-15-3 | 7/8/90
Monuron | 150-68-5 | 1/1/95
Mustard gas | 505-60-2 | 1/1/87
Myclobutanil | 88671-89-0 | 1/1/95
Nabam | 142-59-6 | 1/1/95
Naled | 300-76-5 | 1/1/95
Naphthalene | 91-20-3 | 1/1/87
alpha-Naphthylamine (1-Naphthalenamine) | 134-32-7 | 1/1/87
beta-Naphthylamine (2-Naphthalenamine) | 91-59-8 | 1/1/87
Nickel | 7440-02-0 | 1/1/87
Nitrapyrin | 1929-82-4 | 1/1/95
Nitric acid | 7697-37-2 | 1/1/87
Nitrilotriacetic acid | 139-13-9 | 1/1/87
p-Nitroaniline | 100-01-6 | 1/1/95
5-Nitro-o-anisidine (2-Methoxy-5-nitroaniline) | 99-59-2 | 1/1/87
o-Nitroanisole | 91-23-6 | 1/1/11
Nitrobenzene | 98-95-3 | 1/1/87
4-Nitrobiphenyl | 92-93-3 | 1/1/87
Nitrofen | 1836-75-5 | 1/1/87
Nitrogen mustard (HN-2) | 51-75-2 | 1/1/87
Nitroglycerin | 55-63-0 | 1/1/87
Nitromethane | 75-52-5 | 1/1/11
2-Nitrophenol (o-Nitrophenol) | 88-75-5 | 1/1/87
4-Nitrophenol (p-Nitrophenol) | 100-02-7 | 1/1/87
2-Nitropropane | 79-46-9 | 1/1/87
N-Nitrosodi-n-butylamine | 924-16-3 | 1/1/87
N-Nitrosodiethylamine | 55-18-5 | 1/1/87
N-Nitrosodimethylamine | 62-75-9 | 1/1/87
N-Nitrosodiphenylamine | 86-30-6 | 1/1/87
p-Nitrosodiphenylamine | 156-10-5 | 1/1/87
N-Nitrosodi-n-propylamine | 621-64-7 | 1/1/87
N-Nitroso-N-ethylurea | 759-73-9 | 1/1/87
N-Nitroso-N-methylurea | 684-93-5 | 1/1/87
N-Nitrosomethylvinylamine | 4549-40-0 | 1/1/87
N-Nitrosomorpholine | 59-89-2 | 1/1/87
N-Nitrosonornicotine | 16543-55-8 | 1/1/87
N-Nitrosopiperidine | 100-75-4 | 1/1/87
o-Nitrotoluene | 88-72-2 | 1/1/14
5-Nitro-o-toluidine (2-Methyl-5-nitroaniline) | 99-55-8 | 1/1/94
Norflurazon | 27314-13-2 | 1/1/95
Octachloronaphthalene | 2234-13-1 | 1/1/87
Octachlorostyrene | 29082-74-4 | 1/1/00
Oryzalin | 19044-88-3 | 1/1/95
Osmium tetroxide | 20816-12-0 | 1/1/87
Oxydemeton-methyl | 301-12-2 | 1/1/95
Oxadiazon | 19666-30-9 | 1/1/95
Oxyfluorfen | 42874-03-3 | 1/1/95
Ozone | 10028-15-6 | 1/1/95
Paraldehyde | 123-63-7 | 1/1/94
Paraquat dichloride | 1910-42-5 | 1/1/95
Parathion | 56-38-2 | 1/1/87
Pebulate | 1114-71-2 | 1/1/95
Pendimethalin | 40487-42-1 | 1/1/95
Pentachlorobenzene | 608-93-5 | 1/1/00
Pentachloroethane | 76-01-7 | 1/1/94
Pentachlorophenol | 87-86-5 | 1/1/87
Pentobarbital sodium | 57-33-0 | 1/1/95
Peracetic acid | 79-21-0 | 1/1/87
Perchloromethyl mercaptan | 594-42-3 | 1/1/95
Permethrin | 52645-53-1 | 1/1/95
Phenanthrene | 85-01-8 | 1/1/95
Phenol | 108-95-2 | 1/1/87
Phenolphthalein (3,3-Bis(4-hydroxyphenyl)phthalide) | 77-09-8 | 1/1/11
Phenothrin | 26002-80-2 | 1/1/95
p-Phenylenediamine | 106-50-3 | 1/1/87
1,2-Phenylenediamine | 95-54-5 | 1/1/95
1,3-Phenylenediamine | 108-45-2 | 1/1/95
1,2-Phenylenediamine dihydrochloride | 615-28-1 | 1/1/95
1,4-Phenylenediamine dihydrochloride | 624-18-0 | 1/1/95
2-Phenylphenol | 90-43-7 | 1/1/87
Phenytoin | 57-41-0 | 1/1/95
Phosgene | 75-44-5 | 1/1/87
Phosphine | 7803-51-2 | 1/1/95
Phosphorus (yellow or white) | 12185-10-3 | 1/1/87
Phthalic anhydride | 85-44-9 | 1/1/87
Picloram | 1918-02-1 | 1/1/95
Picric acid | 88-89-1 | 1/1/87
Piperonyl butoxide | 51-03-6 | 1/1/95
Pirimiphos-methyl | 29232-93-7 | 1/1/95
Polychlorinated biphenyls | 1336-36-3 | 1/1/87
Potassium bromate | 7758-01-2 | 1/1/95
Potassium dimethyldithiocarbamate | 128-03-0 | 1/1/95
Potassium N-methyldithiocarbamate | 137-41-7 | 1/1/95
Profenofos | 41198-08-7 | 1/1/95
Prometryn | 7287-19-6 | 1/1/95
Pronamide | 23950-58-5 | 1/1/94
Propachlor | 1918-16-7 | 1/1/95
1,3-Propane sultone | 1120-71-4 | 1/1/87
Propanil | 709-98-8 | 1/1/95
Propargite | 2312-35-8 | 1/1/95
Propargyl alcohol | 107-19-7 | 1/1/95
Propetamphos | 31218-83-4 | 1/1/95
Propiconazole | 60207-90-1 | 1/1/95
beta-Propiolactone | 57-57-8 | 1/1/87
Propionaldehyde | 123-38-6 | 1/1/87
Propoxur | 114-26-1 | 1/1/87
Propylene | 115-07-1 | 1/1/87
Propyleneimine | 75-55-8 | 1/1/87
Propylene oxide | 75-56-9 | 1/1/87
Pyridine | 110-86-1 | 1/1/87
Quinoline | 91-22-5 | 1/1/87
Quinone | 106-51-4 | 1/1/87
Quintozene (Pentachloronitrobenzene) | 82-68-8 | 1/1/87
Quizalofop-ethyl | 76578-14-8 | 1/1/95
Resmethrin | 10453-86-8 | 1/1/95
Saccharin (only persons who manufacture are subject, no supplier notification) | 81-07-2 | 1/1/87
Safrole | 94-59-7 | 1/1/87
Selenium | 7782-49-2 | 1/1/87
Sethoxydim | 74051-80-2 | 1/1/95
Silver | 7440-22-4 | 1/1/87
Simazine | 122-34-9 | 1/1/95
Sodium azide | 26628-22-8 | 1/1/95
Sodium dicamba | 1982-69-0 | 1/1/95
Sodium dimethyldithiocarbamate | 128-04-1 | 1/1/95
Sodium fluoroacetate | 62-74-8 | 1/1/95
Sodium nitrite | 7632-00-0 | 1/1/95
Sodium pentachlorophenate | 131-52-2 | 1/1/95
Sodium o-phenylphenoxide | 132-27-4 | 1/1/95
Styrene | 100-42-5 | 1/1/87
Styrene oxide | 96-09-3 | 1/1/87
Sulfuric acid (acid aerosols including mists, vapors, gas, fog, and other airborne forms of any particle size) | 7664-93-9 | 1/1/87
Sulfuryl fluoride | 2699-79-8 | 1/1/95
Sulprofos | 35400-43-2 | 1/1/95
Tebuthiuron | 34014-18-1 | 1/1/95
Temephos | 3383-96-8 | 1/1/95
Terbacil | 5902-51-2 | 1/1/95
Tetrabromobisphenol A | 79-94-7 | 1/1/00
1,1,1,2-Tetrachloroethane | 630-20-6 | 1/1/94
1,1,2,2-Tetrachloroethane | 79-34-5 | 1/1/87
Tetrachloroethylene | 127-18-4 | 1/1/87
1,1,1,2-Tetrachloro-2-fluoroethane (HCFC-121a) | 354-11-0 | 1/1/95
1,1,2,2-Tetrachloro-1-fluoroethane (HCFC-121) | 354-14-3 | 1/1/95
Tetrachlorvinphos | 961-11-5 | 1/1/87
Tetracycline hydrochloride | 64-75-5 | 1/1/95
Tetrafluoroethylene (Tetrafluoroethene) | 116-14-3 | 1/1/11
Tetramethrin | 7696-12-0 | 1/1/95
Tetranitromethane | 509-14-8 | 1/1/11
Thallium | 7440-28-0 | 1/1/87
Thiabendazole | 148-79-8 | 1/1/95
Thioacetamide | 62-55-5 | 1/1/87
Thiobencarb | 28249-77-6 | 1/1/95
4,4′-Thiodianiline | 139-65-1 | 1/1/87
Thiodicarb | 59669-26-0 | 1/1/95
Thiophanate-ethyl | 23564-06-9 | 1/1/95
Thiophanate-methyl | 23564-05-8 | 1/1/95
Thiosemicarbazide | 79-19-6 | 1/1/95
Thiourea | 62-56-6 | 1/1/87
Thiram | 137-26-8 | 1/1/94
Thorium dioxide | 1314-20-1 | 1/1/87
Titanium tetrachloride | 7550-45-0 | 1/1/87
Toluene | 108-88-3 | 1/1/87
Toluene-2,4-diisocyanate | 584-84-9 | 1/1/87
Toluene-2,6-diisocyanate | 91-08-7 | 1/1/87
Toluene diisocyanate (mixed isomers) | 26471-62-5 | 1/1/90
o-Toluidine | 95-53-4 | 1/1/87
o-Toluidine hydrochloride | 636-21-5 | 1/1/87
Toxaphene | 8001-35-2 | 1/1/87
Triadimefon | 43121-43-3 | 1/1/95
Triallate | 2303-17-5 | 1/1/95
Triaziquone | 68-76-8 | 1/1/87
Tribenuron-methyl | 101200-48-0 | 1/1/95
Tributyltin fluoride | 1983-10-4 | 1/1/95
Tributyltin methacrylate | 2155-70-6 | 1/1/95
S,S,S-Tributyltrithiophosphate (Tribufos) | 78-48-8 | 1/1/95
Trichlorfon | 52-68-6 | 1/1/87
Trichloroacetyl chloride | 76-02-8 | 1/1/95
1,2,4-Trichlorobenzene | 120-82-1 | 1/1/87
1,1,1-Trichloroethane | 71-55-6 | 1/1/87
1,1,2-Trichloroethane | 79-00-5 | 1/1/87
Trichloroethylene | 79-01-6 | 1/1/87
Trichlorofluoromethane (CFC-11) | 75-69-4 | 7/8/90
2,4,5-Trichlorophenol | 95-95-4 | 1/1/87
2,4,6-Trichlorophenol | 88-06-2 | 1/1/87
1,2,3-Trichloropropane | 96-18-4 | 1/1/95
Triclopyr-triethylammonium salt | 57213-69-1 | 1/1/95
Triethylamine | 121-44-8 | 1/1/95
Trifluralin | 1582-09-8 | 1/1/87
Triforine | 26644-46-2 | 1/1/95
1,2,4-Trimethylbenzene | 95-63-6 | 1/1/87
2,3,5-Trimethylphenyl methylcarbamate | 2655-15-4 | 1/1/95
Triphenyltin chloride | 639-58-7 | 1/1/95
Triphenyltin hydroxide | 76-87-9 | 1/1/95
Tris(2,3-dibromopropyl) phosphate | 126-72-7 | 1/1/87
Trypan blue | 72-57-1 | 1/1/94
Urethane | 51-79-6 | 1/1/87
Vanadium (except when contained in an alloy) | 7440-62-2 | 1/1/00
Vinclozolin | 50471-44-8 | 1/1/95
Vinyl acetate | 108-05-4 | 1/1/87
Vinyl bromide | 593-60-2 | 1/1/87
Vinyl chloride | 75-01-4 | 1/1/87
Vinyl fluoride | 75-02-5 | 1/1/11
Vinylidene chloride (1,1-Dichloroethylene) | 75-35-4 | 1/1/87
Xylene (mixed isomers) | 1330-20-7 | 1/1/87
m-Xylene | 108-38-3 | 1/1/87
o-Xylene | 95-47-6 | 1/1/87
p-Xylene | 106-42-3 | 1/1/87
2,6-Xylidine | 87-62-7 | 1/1/87
Zinc (fume or dust) | 7440-66-6 | 1/1/87
Zineb | 12122-67-7 | 1/1/87
¹ The listing of 2,2-dibromo-3-nitrilopropionamide (CAS No. 10222-01-2) is stayed. The stay will remain in effect until further administrative action is taken.
² The listing of methyl mercaptan (CAS No. 74-93-1) is stayed. The stay will remain in effect until further administrative action is taken.

(b) * * *

Table 2 to Paragraph (b)
CAS No. | Chemical name | Effective date
50-00-0 | Formaldehyde | 1/1/87
51-03-6 | Piperonyl butoxide | 1/1/95
51-21-8 | Fluorouracil (5-Fluorouracil) | 1/1/95
51-28-5 | 2,4-Dinitrophenol | 1/1/87
51-75-2 | Nitrogen mustard (HN-2) | 1/1/87
51-79-6 | Urethane | 1/1/87
52-68-6 | Trichlorfon | 1/1/87
52-85-7 | Famphur | 1/1/95
53-96-3 | 2-Acetylaminofluorene | 1/1/87
55-18-5 | N-Nitrosodiethylamine | 1/1/87
55-21-0 | Benzamide | 1/1/87
55-38-9 | Fenthion | 1/1/95
55-63-0 | Nitroglycerin | 1/1/87
56-23-5 | Carbon tetrachloride | 1/1/87
56-35-9 | Bis(tributyltin) oxide | 1/1/95
56-38-2 | Parathion | 1/1/87
57-14-7 | 1,1-Dimethylhydrazine | 1/1/87
57-33-0 | Pentobarbital sodium | 1/1/95
57-41-0 | Phenytoin | 1/1/95
57-57-8 | beta-Propiolactone | 1/1/87
57-74-9 | Chlordane | 1/1/87
58-89-9 | Lindane | 1/1/87
59-89-2 | N-Nitrosomorpholine | 1/1/87
60-09-3 | 4-Aminoazobenzene | 1/1/87
60-11-7 | 4-Dimethylaminoazobenzene | 1/1/87
60-34-4 | Methyl hydrazine | 1/1/87
60-35-5 | Acetamide | 1/1/87
60-51-5 | Dimethoate | 1/1/95
61-82-5 | Amitrole | 1/1/94
62-53-3 | Aniline | 1/1/87
62-55-5 | Thioacetamide | 1/1/87
62-56-6 | Thiourea | 1/1/87
62-73-7 | Dichlorvos | 1/1/87
62-74-8 | Sodium fluoroacetate | 1/1/95
62-75-9 | N-Nitrosodimethylamine | 1/1/87
63-25-2 | Carbaryl | 1/1/87
64-18-6 | Formic acid | 1/1/94
64-67-5 | Diethyl sulfate | 1/1/87
64-75-5 | Tetracycline hydrochloride | 1/1/95
67-56-1 | Methanol | 1/1/87
67-63-0 | Isopropyl alcohol (Isopropanol) (only persons who manufacture by the strong acid process are subject, no supplier notification) | 1/1/87
67-66-3 | Chloroform | 1/1/87
67-72-1 | Hexachloroethane | 1/1/87
68-12-2 | N,N-Dimethylformamide | 1/1/95
68-76-8 | Triaziquone | 1/1/87
70-30-4 | Hexachlorophene | 1/1/94
71-36-3 | n-Butyl alcohol (1-Butanol) | 1/1/87
71-43-2 | Benzene | 1/1/87
71-55-6 | 1,1,1-Trichloroethane | 1/1/87
72-43-5 | Methoxychlor | 1/1/87
72-57-1 | Trypan blue | 1/1/94
74-83-9 | Bromomethane (Methyl bromide) | 1/1/87
74-85-1 | Ethylene | 1/1/87
74-87-3 | Chloromethane | 1/1/87
74-88-4 | Methyl iodide | 1/1/87
74-90-8 | Hydrogen cyanide | 1/1/87
74-93-1 | Methyl mercaptan ¹ | 1/1/94
74-95-3 | Methylene bromide (Dibromomethane) | 1/1/87
75-00-3 | Chloroethane | 1/1/87
75-01-4 | Vinyl chloride | 1/1/87
75-02-5 | Vinyl fluoride | 1/1/11
75-05-8 | Acetonitrile | 1/1/87
75-07-0 | Acetaldehyde | 1/1/87
75-09-2 | Dichloromethane (Methylene chloride) | 1/1/87
75-15-0 | Carbon disulfide | 1/1/87
75-21-8 | Ethylene oxide | 1/1/87
75-25-2 | Bromoform (Tribromomethane) | 1/1/87
75-27-4 | Dichlorobromomethane | 1/1/87
75-34-3 | Ethylidene dichloride (1,1-Dichloroethane) | 1/1/94
75-35-4 | Vinylidene chloride (1,1-Dichloroethylene) | 1/1/87
75-43-4 | Dichlorofluoromethane (HCFC-21) | 1/1/95
75-44-5 | Phosgene | 1/1/87
75-45-6 | Chlorodifluoromethane (HCFC-22) | 1/1/94
75-52-5 | Nitromethane | 1/1/11
75-55-8 | Propyleneimine | 1/1/87
75-56-9 | Propylene oxide | 1/1/87
75-63-8 | Bromotrifluoromethane (Halon 1301) | 7/8/90
75-65-0 | tert-Butyl alcohol (tert-Butanol) | 1/1/87
75-68-3 | 1-Chloro-1,1-difluoroethane (HCFC-142b) | 1/1/94
75-69-4 | Trichlorofluoromethane (CFC-11) | 7/8/90
75-71-8 | Dichlorodifluoromethane (CFC-12) | 7/8/90
75-72-9 | Chlorotrifluoromethane (CFC-13) | 1/1/95
75-86-5 | 2-Methyllactonitrile (Acetone cyanohydrin) | 1/1/95
75-88-7 | 2-Chloro-1,1,1-trifluoroethane (HCFC-133a) | 1/1/95
76-01-7 | Pentachloroethane | 1/1/94
76-02-8 | Trichloroacetyl chloride | 1/1/95
76-06-2 | Chloropicrin | 1/1/95
76-13-1 | Freon 113 (CFC-113) | 1/1/87
76-14-2 | Dichlorotetrafluoroethane (CFC-114) | 7/8/90
76-15-3 | Monochloropentafluoroethane (CFC-115) | 7/8/90
76-44-8 | Heptachlor | 1/1/87
76-87-9 | Triphenyltin hydroxide | 1/1/95
77-09-8 | Phenolphthalein (3,3-Bis(4-hydroxyphenyl)phthalide) | 1/1/11
77-47-4 | Hexachlorocyclopentadiene | 1/1/87
77-73-6 | Dicyclopentadiene | 1/1/95
77-78-1 | Dimethyl sulfate | 1/1/87
78-48-8 | S,S,S-Tributyltrithiophosphate (Tribufos) | 1/1/95
78-79-5 | Isoprene | 1/1/11
78-84-2 | Isobutyraldehyde | 1/1/87
78-87-5 | 1,2-Dichloropropane | 1/1/87
78-88-6 | 2,3-Dichloropropene | 1/1/90
78-92-2 | sec-Butyl alcohol (2-Butanol) | 1/1/87
79-00-5 | 1,1,2-Trichloroethane | 1/1/87
79-01-6 | Trichloroethylene | 1/1/87
79-06-1 | Acrylamide | 1/1/87
79-10-7 | Acrylic acid | 1/1/87
79-11-8 | Chloroacetic acid | 1/1/87
79-19-6 | Thiosemicarbazide | 1/1/95
79-21-0 | Peracetic acid | 1/1/87
79-22-1 | Methyl chlorocarbonate | 1/1/94
79-34-5 | 1,1,2,2-Tetrachloroethane | 1/1/87
79-44-7 | Dimethylcarbamoyl chloride | 1/1/87
79-46-9 | 2-Nitropropane | 1/1/87
79-94-7 | Tetrabromobisphenol A | 1/1/00
80-05-7 | 4,4′-Isopropylidenediphenol | 1/1/87
80-15-9 | Cumene hydroperoxide | 1/1/87
80-62-6 | Methyl methacrylate | 1/1/87
81-07-2 | Saccharin (only persons who manufacture are subject, no supplier notification) | 1/1/87
81-49-2 | 1-Amino-2,4-dibromoanthraquinone | 1/1/11
81-88-9 | C.I. Food Red 15 (Rhodamine B) | 1/1/87
82-28-0 | 1-Amino-2-methylanthraquinone | 1/1/87
82-68-8 | Quintozene (Pentachloronitrobenzene) | 1/1/87
84-74-2 | Dibutyl phthalate | 1/1/87
85-01-8 | Phenanthrene | 1/1/95
85-44-9 | Phthalic anhydride | 1/1/87
86-30-6 | N-Nitrosodiphenylamine | 1/1/87
87-62-7 | 2,6-Xylidine | 1/1/87
87-68-3 | Hexachloro-1,3-butadiene (Hexachlorobutadiene) | 1/1/87
87-86-5 | Pentachlorophenol | 1/1/87
88-06-2 | 2,4,6-Trichlorophenol | 1/1/87
88-72-2 | o-Nitrotoluene | 1/1/14
88-75-5 | 2-Nitrophenol (o-Nitrophenol) | 1/1/87
88-85-7 | Dinitrobutyl phenol (Dinoseb) | 1/1/95
88-89-1 | Picric acid | 1/1/87
90-04-0 | o-Anisidine | 1/1/87
90-43-7 | 2-Phenylphenol | 1/1/87
90-94-8 | Michler's ketone | 1/1/87
91-08-7 | Toluene-2,6-diisocyanate | 1/1/87
91-20-3 | Naphthalene | 1/1/87
91-22-5 | Quinoline | 1/1/87
91-23-6 | o-Nitroanisole | 1/1/11
91-59-8 | beta-Naphthylamine (2-Naphthalenamine) | 1/1/87
91-94-1 | 3,3′-Dichlorobenzidine | 1/1/87
92-52-4 | Biphenyl | 1/1/87
92-67-1 | 4-Aminobiphenyl | 1/1/87
92-87-5 | Benzidine | 1/1/87
92-93-3 | 4-Nitrobiphenyl | 1/1/87
93-15-2 | Methyleugenol | 1/1/11
93-65-2 | Mecoprop | 1/1/95
94-11-1 | 2,4-D isopropyl ester | 1/1/95
94-36-0 | Benzoyl peroxide | 1/1/87
94-58-6 | Dihydrosafrole | 1/1/94
94-59-7 | Safrole | 1/1/87
94-74-6 | Methoxone (MCPA) | 1/1/95
94-75-7 | 2,4-D | 1/1/87
94-80-4 | 2,4-D butyl ester | 1/1/95
94-82-6 | 2,4-DB | 1/1/95
95-47-6 | o-Xylene | 1/1/87
95-48-7 | o-Cresol | 1/1/87
95-50-1 | 1,2-Dichlorobenzene (o-Dichlorobenzene) | 1/1/87
95-53-4 | o-Toluidine | 1/1/87
95-54-5 | 1,2-Phenylenediamine | 1/1/95
95-63-6 | 1,2,4-Trimethylbenzene | 1/1/87
95-69-2 | p-Chloro-o-toluidine (4-Chloro-2-methylaniline) | 1/1/95
95-80-7 | 2,4-Diaminotoluene (2,4-Toluenediamine) | 1/1/87
95-95-4 | 2,4,5-Trichlorophenol | 1/1/87
96-09-3 | Styrene oxide | 1/1/87
96-12-8 | 1,2-Dibromo-3-chloropropane | 1/1/87
96-18-4 | 1,2,3-Trichloropropane | 1/1/95
96-33-3 | Methyl acrylate | 1/1/87
96-45-7 | Ethylene thiourea | 1/1/87
97-23-4 | Dichlorophene | 1/1/95
97-56-3 | C.I. Solvent Yellow 3 | 1/1/87
98-07-7 | Benzoic trichloride (Benzotrichloride) | 1/1/87
98-82-8 | Cumene | 1/1/87
98-86-2 | Acetophenone | 1/1/94
98-87-3 | Benzal chloride | 1/1/87
98-88-4 | Benzoyl chloride | 1/1/87
98-95-3 | Nitrobenzene | 1/1/87
99-30-9 | Dichloran | 1/1/95
99-55-8 | 5-Nitro-o-toluidine (2-Methyl-5-nitroaniline) | 1/1/94
99-59-2 | 5-Nitro-o-anisidine (2-Methoxy-5-nitroaniline) | 1/1/87
99-65-0 | m-Dinitrobenzene | 1/1/90
100-01-6 | p-Nitroaniline | 1/1/95
100-02-7 | 4-Nitrophenol (p-Nitrophenol) | 1/1/87
100-25-4 | p-Dinitrobenzene | 1/1/90
100-41-4 | Ethylbenzene | 1/1/87
100-42-5 | Styrene | 1/1/87
100-44-7 | Benzyl chloride | 1/1/87
100-75-4 | N-Nitrosopiperidine | 1/1/87
101-05-3 | Anilazine | 1/1/95
101-14-4 | 4,4′-Methylenebis(2-chloroaniline) | 1/1/87
101-61-1 | 4,4′-Methylenebis(N,N-dimethyl)benzenamine (4,4′-Methylenebis[N,N-dimethylaniline]) | 1/1/87
101-77-9 | 4,4′-Methylenedianiline | 1/1/87
101-80-4 | 4,4′-Diaminodiphenyl ether | 1/1/87
101-90-6 | Diglycidyl resorcinol ether | 1/1/95
104-12-1 | p-Chlorophenyl isocyanate | 1/1/95
104-94-9 | p-Anisidine | 1/1/87
105-67-9 | 2,4-Dimethylphenol | 1/1/87
106-42-3 | p-Xylene | 1/1/87
106-44-5 | p-Cresol | 1/1/87
106-46-7 | 1,4-Dichlorobenzene (p-Dichlorobenzene) | 1/1/87
106-47-8 | p-Chloroaniline | 1/1/95
106-50-3 | p-Phenylenediamine | 1/1/87
106-51-4 | Quinone | 1/1/87
106-88-7 | 1,2-Butylene oxide | 1/1/87
106-89-8 | Epichlorohydrin | 1/1/87
106-93-4 | 1,2-Dibromoethane (Ethylene dibromide) | 1/1/87
106-94-5 | 1-Bromopropane | 1/1/16
106-99-0 | 1,3-Butadiene | 1/1/87
107-02-8 | Acrolein | 1/1/87
107-05-1 | Allyl chloride | 1/1/87
107-06-2 | 1,2-Dichloroethane | 1/1/87
107-11-9 | Allylamine | 1/1/95
107-13-1 | Acrylonitrile | 1/1/87
107-18-6 | Allyl alcohol | 1/1/90
107-19-7 | Propargyl alcohol | 1/1/95
107-21-1 | Ethylene glycol | 1/1/87
107-30-2 | Chloromethyl methyl ether | 1/1/87
108-05-4 | Vinyl acetate | 1/1/87
108-10-1 | Methyl isobutyl ketone | 1/1/87
108-31-6 | Maleic anhydride | 1/1/87
108-38-3 | m-Xylene | 1/1/87
108-39-4 | m-Cresol | 1/1/87
108-45-2 | 1,3-Phenylenediamine | 1/1/95
108-60-1 | Bis(2-chloro-1-methylethyl) ether | 1/1/87
108-88-3 | Toluene | 1/1/87
108-90-7 | Chlorobenzene | 1/1/87
108-93-0 | Cyclohexanol | 1/1/95
108-95-2 | Phenol | 1/1/87
109-06-8 | 2-Methylpyridine | 1/1/94
109-77-3 | Malononitrile | 1/1/94
109-86-4 | 2-Methoxyethanol | 1/1/87
110-00-9 | Furan | 1/1/11
110-54-3 | n-Hexane (Hexane) | 1/1/95
110-57-6 | trans-1,4-Dichloro-2-butene | 1/1/95
110-80-5 | 2-Ethoxyethanol | 1/1/87
110-82-7 | Cyclohexane | 1/1/87
110-86-1 | Pyridine | 1/1/87
111-42-2 | Diethanolamine | 1/1/87
111-44-4 | Bis(2-chloroethyl) ether | 1/1/87
111-91-1 | Bis(2-chloroethoxy)methane | 1/1/94
114-26-1 | Propoxur | 1/1/87
115-07-1 | Propylene | 1/1/87
115-28-6 | Chlorendic acid | 1/1/95
115-32-2 | Dicofol | 1/1/87
116-06-3 | Aldicarb | 1/1/95
116-14-3 | Tetrafluoroethylene (Tetrafluoroethene) | 1/1/11
117-79-3 | 2-Aminoanthraquinone | 1/1/87
117-81-7 | Di(2-ethylhexyl) phthalate | 1/1/87
118-74-1 | Hexachlorobenzene | 1/1/87
119-90-4 | 3,3′-Dimethoxybenzidine | 1/1/87
119-93-7 | 3,3′-Dimethylbenzidine | 1/1/87
120-12-7 | Anthracene | 1/1/87
120-36-5 | 2,4-DP (Dichlorprop) | 1/1/95
120-58-1 | Isosafrole | 1/1/90
120-71-8 | p-Cresidine | 1/1/87
120-80-9 | Catechol | 1/1/87
120-82-1 | 1,2,4-Trichlorobenzene | 1/1/87
120-83-2 | 2,4-Dichlorophenol | 1/1/87
121-14-2 | 2,4-Dinitrotoluene | 1/1/87
121-44-8 | Triethylamine | 1/1/95
121-69-7 | N,N-Dimethylaniline | 1/1/87
121-75-5 | Malathion | 1/1/95
122-34-9 | Simazine | 1/1/95
122-39-4 | Diphenylamine | 1/1/95
122-66-7 | 1,2-Diphenylhydrazine | 1/1/87
123-31-9 | Hydroquinone | 1/1/87
123-38-6 | Propionaldehyde | 1/1/87
123-63-7 | Paraldehyde | 1/1/94
123-72-8 | Butyraldehyde | 1/1/87
123-91-1 | 1,4-Dioxane | 1/1/87
124-40-3 | Dimethylamine | 1/1/95
124-73-2 | Dibromotetrafluoroethane (1,2-Dibromo-1,1,2,2-tetrafluoroethane) | 7/8/90
126-72-7 | Tris(2,3-dibromopropyl) phosphate | 1/1/87
126-98-7 | Methacrylonitrile | 1/1/94
126-99-8 | Chloroprene | 1/1/87
127-18-4 | Tetrachloroethylene | 1/1/87
128-03-0 | Potassium dimethyldithiocarbamate | 1/1/95
128-04-1 | Sodium dimethyldithiocarbamate | 1/1/95
128-66-5 | C.I. Vat Yellow 4 | 1/1/87
131-11-3 | Dimethyl phthalate | 1/1/87
131-52-2 | Sodium pentachlorophenate | 1/1/95
132-27-4 | Sodium o-phenylphenoxide | 1/1/95
132-64-9 | Dibenzofuran | 1/1/87
133-06-2 | Captan | 1/1/87
133-07-3 | Folpet | 1/1/95
133-90-4 | Chloramben | 1/1/87
134-29-2 | o-Anisidine hydrochloride | 1/1/87
134-32-7 | alpha-Naphthylamine (1-Naphthalenamine) | 1/1/87
135-20-6 | Cupferron | 1/1/87
136-45-8 | Dipropyl isocinchomeronate | 1/1/95
137-26-8 | Thiram | 1/1/94
137-41-7 | Potassium N-methyldithiocarbamate | 1/1/95
137-42-8 | Metham sodium (Sodium methyldithiocarbamate) | 1/1/95
138-93-2 | Disodium cyanodithioimidocarbonate | 1/1/95
139-13-9 | Nitrilotriacetic acid | 1/1/87
139-65-1 | 4,4′-Thiodianiline | 1/1/87
140-88-5 | Ethyl acrylate | 1/1/87
141-32-2 | Butyl acrylate | 1/1/87
142-59-6 | Nabam | 1/1/95
148-79-8 | Thiabendazole | 1/1/95
149-30-4 | 2-Mercaptobenzothiazole | 1/1/95
150-50-5 | Merphos | 1/1/95
150-68-5 | Monuron | 1/1/95
151-56-4 | Ethyleneimine (Aziridine) | 1/1/87
156-10-5 | p-Nitrosodiphenylamine | 1/1/87
156-62-7 | Calcium cyanamide | 1/1/87
191-24-2 | Benzo[g,h,i]perylene | 1/1/00
298-00-0 | Methyl parathion | 1/1/95
300-76-5 | Naled | 1/1/95
301-12-2 | Oxydemeton-methyl | 1/1/95
302-01-2 | Hydrazine | 1/1/87
306-83-2 | 2,2-Dichloro-1,1,1-trifluoroethane (HCFC-123) | 1/1/94
309-00-2 | Aldrin | 1/1/87
314-40-9 | Bromacil | 1/1/95
319-84-6 | alpha-Hexachlorocyclohexane | 1/1/95
330-54-1 | Diuron | 1/1/95
330-55-2 | Linuron | 1/1/95
333-41-5 | Diazinon | 1/1/95
334-88-3 | Diazomethane | 1/1/87
353-59-3 | Bromochlorodifluoromethane (Halon 1211) | 7/8/90
354-11-0 | 1,1,1,2-Tetrachloro-2-fluoroethane (HCFC-121a) | 1/1/95
354-14-3 | 1,1,2,2-Tetrachloro-1-fluoroethane (HCFC-121) | 1/1/95
354-23-4 | 1,2-Dichloro-1,1,2-trifluoroethane (HCFC-123a) | 1/1/94
354-25-6 | 1-Chloro-1,1,2,2-tetrafluoroethane (HCFC-124a) | 1/1/94
357-57-3 | Brucine | 1/1/95
422-44-6 | 1,2-Dichloro-1,1,2,3,3-pentafluoropropane (HCFC-225bb) | 1/1/95
422-48-0 | 2,3-dichloro-1,1,1,2,3-pentafluoropropane (HCFC-225ba) | 1/1/95
422-56-0 | 3,3-Dichloro-1,1,1,2,2-pentafluoropropane (HCFC-225ca) | 1/1/95
431-86-7 | 1,2-Dichloro-1,1,3,3,3-pentafluoropropane (HCFC-225da) | 1/1/95
460-35-5 | 3-Chloro-1,1,1-trifluoropropane (HCFC-253fb) | 1/1/95
463-58-1 | Carbonyl sulfide | 1/1/87
465-73-6 | Isodrin | 1/1/95
492-80-8 | C.I. Solvent Yellow 34 (Auramine) | 1/1/87
505-60-2 | Mustard gas | 1/1/87
507-55-1 | 1,3-Dichloro-1,1,2,2,3-pentafluoropropane (HCFC-225cb) | 1/1/95
509-14-8 | Tetranitromethane | 1/1/11
510-15-6 | Chlorobenzilate | 1/1/87
528-29-0 | o-Dinitrobenzene | 1/1/90
532-27-4 | 2-Chloroacetophenone | 1/1/87
533-74-4 | Dazomet | 1/1/95
534-52-1 | 4,6-Dinitro-o-cresol | 1/1/87
540-59-0 | 1,2-Dichloroethylene | 1/1/87
541-41-3 | Ethyl chloroformate | 1/1/87
541-53-7 | 2,4-Dithiobiuret (Dithiobiuret) | 1/1/95
541-73-1 | 1,3-Dichlorobenzene (m-Dichlorobenzene) | 1/1/87
542-75-6 | 1,3-Dichloropropylene (1,3-Dichloropropene) | 1/1/87
542-76-7 | 3-Chloropropionitrile | 1/1/95
542-88-1 | Bis(chloromethyl) ether | 1/1/87
554-13-2 | Lithium carbonate | 1/1/95
556-52-5 | Glycidol | 1/1/11
556-61-6 | Methyl isothiocyanate | 1/1/95
563-47-3 | 3-Chloro-2-methyl-1-propene | 1/1/95
569-64-2 | C.I. Basic Green 4 (Malachite green) | 1/1/87
584-84-9 | Toluene-2,4-diisocyanate | 1/1/87
593-60-2 | Vinyl bromide | 1/1/87
594-42-3 | Perchloromethyl mercaptan | 1/1/95
606-20-2 | 2,6-Dinitrotoluene | 1/1/87
608-93-5 | Pentachlorobenzene | 1/1/00
612-82-8 | 3,3′-Dimethylbenzidine dihydrochloride | 1/1/95
612-83-9 | 3,3′-Dichlorobenzidine dihydrochloride | 1/1/95
615-05-4 | 2,4-Diaminoanisole | 1/1/87
615-28-1 | 1,2-Phenylenediamine dihydrochloride | 1/1/95
621-64-7 | N-Nitrosodi-n-propylamine | 1/1/87
624-18-0 | 1,4-Phenylenediamine dihydrochloride | 1/1/95
624-83-9 | Methyl isocyanate | 1/1/87
630-20-6 | 1,1,1,2-Tetrachloroethane | 1/1/94
636-21-5 | o-Toluidine hydrochloride | 1/1/87
639-58-7 | Triphenyltin chloride | 1/1/95
680-31-9 | Hexamethylphosphoramide | 1/1/87
684-93-5 | N-Nitroso-N-methylurea | 1/1/87
709-98-8 | Propanil | 1/1/95
759-73-9 | N-Nitroso-N-ethylurea | 1/1/87
759-94-4 | S-Ethyl dipropylthiocarbamate | 1/1/95
764-41-0 | 1,4-Dichloro-2-butene | 1/1/94
812-04-4 | 1,1-Dichloro-1,2,2-trifluoroethane (HCFC-123b) | 1/1/94
834-12-8 | Ametryn | 1/1/95
842-07-9 | C.I. Solvent Yellow 14 | 1/1/87
872-50-4 | N-Methyl-2-pyrrolidone | 1/1/95
924-16-3 | N-Nitrosodi-n-butylamine | 1/1/87
924-42-5 | N-Methylolacrylamide | 1/1/95
957-51-7 | Diphenamid | 1/1/95
961-11-5 | Tetrachlorvinphos | 1/1/87
989-38-8 | C.I. Basic Red 1 | 1/1/87
1114-71-2 | Pebulate | 1/1/95
1120-71-4 | 1,3-Propane sultone | 1/1/87
1134-23-2 | Cycloate | 1/1/95
1163-19-5 | Decabromodiphenyl oxide | 1/1/87
1313-27-5 | Molybdenum trioxide | 1/1/87
1314-20-1 | Thorium dioxide | 1/1/87
1319-77-3 | Cresol (mixed isomers) | 1/1/87
1320-18-9 | 2,4-D propylene glycol butyl ether ester (2,4-D 2-butoxymethylethyl ester) | 1/1/95
1330-20-7 | Xylene (mixed isomers) | 1/1/87
1332-21-4 | Asbestos (friable) | 1/1/87
1335-87-1 | Hexachloronaphthalene | 1/1/87
1336-36-3 | Polychlorinated biphenyls | 1/1/87
1344-28-1 | Aluminum oxide (fibrous forms) (Alumina) | 1/1/87
1464-53-5 | Diepoxybutane | 1/1/87
1563-66-2 | Carbofuran | 1/1/95
1582-09-8 | Trifluralin | 1/1/87
1634-04-4 | Methyl tert-butyl ether | 1/1/87
1649-08-7 | 1,2-Dichloro-1,1-difluoroethane (HCFC-132b) | 1/1/95
1689-84-5 | Bromoxynil | 1/1/95
1689-99-2 | Bromoxynil octanoate | 1/1/95
1717-00-6 | 1,1-Dichloro-1-fluoroethane (HCFC-141b) | 1/1/94
1836-75-5 | Nitrofen | 1/1/87
1861-40-1 | Benfluralin | 1/1/95
1897-45-6 | Chlorothalonil | 1/1/87
1910-42-5 | Paraquat dichloride | 1/1/95
1912-24-9 | Atrazine | 1/1/95
1918-00-9 | Dicamba | 1/1/95
1918-02-1 | Picloram | 1/1/95
1918-16-7 | Propachlor | 1/1/95
1928-43-4 | 2,4-D 2-ethylhexyl ester | 1/1/95
1929-73-3 | 2,4-D 2-butoxyethyl ester | 1/1/95
1929-82-4 | Nitrapyrin | 1/1/95
1937-37-7 | C.I. Direct Black 38 | 1/1/87
1982-69-0 | Sodium dicamba | 1/1/95
1983-10-4 | Tributyltin fluoride | 1/1/95
2032-65-7 | Methiocarb | 1/1/95
2155-70-6 | Tributyltin methacrylate | 1/1/95
2164-07-0 | Dipotassium endothall | 1/1/95
2164-17-2 | Fluometuron | 1/1/87
2212-67-1 | Molinate | 1/1/95
2234-13-1 | Octachloronaphthalene | 1/1/87
2300-66-5 | Dimethylamine dicamba | 1/1/95
2303-16-4 | Diallate | 1/1/87
2303-17-5 | Triallate | 1/1/95
2312-35-8 | Propargite | 1/1/95
2439-01-2 | Chinomethionate | 1/1/95
2439-10-3 | Dodine | 1/1/95
2524-03-0 | Dimethyl chlorothiophosphate | 1/1/95
2602-46-2 | C.I. Direct Blue 6 | 1/1/87
2655-15-4 | 2,3,5-Trimethylphenyl methylcarbamate | 1/1/95
2699-79-8 | Sulfuryl fluoride | 1/1/95
2702-72-9 | 2,4-D sodium salt | 1/1/95
2832-40-8 | C.I. Disperse Yellow 3 | 1/1/87
2837-89-0 | 2-Chloro-1,1,1,2-tetrafluoroethane (HCFC-124) | 1/1/94
2971-38-2 | 2,4-D chlorocrotyl ester | 1/1/95
3118-97-6 | C.I. Solvent Orange 7 | 1/1/87
3296-90-0 | 2,2-Bis(bromomethyl)-1,3-propanediol | 1/1/11
3383-96-8 | Temephos | 1/1/95
3653-48-3 | Methoxone sodium salt | 1/1/95
3761-53-3 | C.I. Food Red 5 | 1/1/87
4080-31-3 | 1-(3-Chloroallyl)-3,5,7-triaza-1-azoniaadamantane chloride | 1/1/95
4170-30-3 | Crotonaldehyde | 1/1/95
4549-40-0 | N-Nitrosomethylvinylamine | 1/1/87
4680-78-8 | C.I. Acid Green 3 | 1/1/87
5234-68-4 | Carboxin | 1/1/95
5598-13-0 | Chlorpyrifos-methyl | 1/1/95
5902-51-2 | Terbacil | 1/1/95
6459-94-5 | C.I. Acid Red 114 | 1/1/95
7287-19-6 | Prometryn | 1/1/95
7429-90-5 | Aluminum (fume or dust) | 1/1/87
7439-92-1 | Lead | 1/1/87
7439-96-5 | Manganese | 1/1/87
7439-97-6 | Mercury | 1/1/87
7440-02-0 | Nickel | 1/1/87
7440-22-4 | Silver | 1/1/87
7440-28-0 | Thallium | 1/1/87
7440-36-0 | Antimony | 1/1/87
7440-38-2 | Arsenic | 1/1/87
7440-39-3 | Barium | 1/1/87
7440-41-7 | Beryllium | 1/1/87
7440-43-9 | Cadmium | 1/1/87
7440-47-3 | Chromium | 1/1/87
7440-48-4 | Cobalt | 1/1/87
7440-50-8 | Copper | 1/1/87
7440-62-2 | Vanadium (except when contained in an alloy) | 1/1/00
7440-66-6 | Zinc (fume or dust) | 1/1/87
7550-45-0 | Titanium tetrachloride | 1/1/87
7632-00-0 | Sodium nitrite | 1/1/95
7637-07-2 | Boron trifluoride | 1/1/95
7647-01-0 | Hydrochloric acid (acid aerosols including mists, vapors, gas, fog, and other airborne forms of any particle size) | 1/1/87
7664-39-3 | Hydrogen fluoride (Hydrofluoric acid) | 1/1/87
7664-41-7 | Ammonia (includes anhydrous ammonia and aqueous ammonia from water dissociable ammonium salts and other sources; 10 percent of total aqueous ammonia is reportable under this listing) | 1/1/87
7664-93-9 | Sulfuric acid (acid aerosols including mists, vapors, gas, fog, and other airborne forms of any particle size) | 1/1/87
7696-12-0 | Tetramethrin | 1/1/95
7697-37-2 | Nitric acid | 1/1/87
7726-95-6 | Bromine | 1/1/95
7758-01-2 | Potassium bromate | 1/1/95
7782-41-4 | Fluorine | 1/1/95
7782-49-2 | Selenium | 1/1/87
7782-50-5 | Chlorine | 1/1/87
7783-06-4 | Hydrogen sulfide | 1/1/94
7786-34-7 | Mevinphos | 1/1/95
7803-51-2 | Phosphine | 1/1/95
8001-35-2 | Toxaphene | 1/1/87
8001-58-9 | Creosote | 1/1/90
9006-42-2 | Metiram | 1/1/95
10028-15-6 | Ozone | 1/1/95
10034-93-2 | Hydrazine sulfate (1:1) | 1/1/87
10049-04-4 | Chlorine dioxide | 1/1/87
10061-02-6 | trans-1,3-Dichloropropene | 1/1/95
10222-01-2 | 2,2-Dibromo-3-nitrilopropionamide ² | 1/1/95
10294-34-5 | Boron trichloride | 1/1/95
10453-86-8 | Resmethrin | 1/1/95
12122-67-7 | Zineb | 1/1/87
12185-10-3 | Phosphorus (yellow or white) | 1/1/87
12427-38-2 | Maneb | 1/1/87
13194-48-4 | Ethoprop | 1/1/95
13356-08-6 | Fenbutatin oxide | 1/1/95
13463-40-6 | Iron pentacarbonyl | 1/1/95
13474-88-9 | 1,1-Dichloro-1,2,2,3,3-pentafluoropropane (HCFC-225cc) | 1/1/95
13684-56-5 | Desmedipham | 1/1/95
14484-64-1 | Ferbam | 1/1/95
15972-60-8 | Alachlor | 1/1/95
16071-86-6 | C.I. Direct Brown 95 | 1/1/87
16543-55-8 | N-Nitrosonornicotine | 1/1/87
17804-35-2 | Benomyl | 1/1/95
19044-88-3 | Oryzalin | 1/1/95
19666-30-9 | Oxadiazon | 1/1/95
20325-40-0 | 3,3′-Dimethoxybenzidine dihydrochloride | 1/1/95
20354-26-1 | Methazole | 1/1/95
20816-12-0 | Osmium tetroxide | 1/1/87
20859-73-8 | Aluminum phosphide | 1/1/95
21087-64-9 | Metribuzin | 1/1/95
21725-46-2 | Cyanazine | 1/1/95
22781-23-3 | Bendiocarb | 1/1/95
23564-05-8 | Thiophanate-methyl | 1/1/95
23564-06-9 | Thiophanate-ethyl | 1/1/95
23950-58-5 | Pronamide | 1/1/94
25311-71-1 | Isofenphos | 1/1/95
25321-14-6 | Dinitrotoluene (mixed isomers) | 1/1/90
25321-22-6 | Dichlorobenzene (mixed isomers) | 1/1/87
25376-45-8 | Diaminotoluene (mixed isomers) (Toluenediamine) | 1/1/87
26002-80-2 | Phenothrin | 1/1/95
26471-62-5 | Toluene diisocyanate (mixed isomers) | 1/1/90
26628-22-8 | Sodium azide | 1/1/95
26644-46-2 | Triforine | 1/1/95
27314-13-2 | Norflurazon | 1/1/95
28249-77-6 | Thiobencarb | 1/1/95
28407-37-6 | C.I. Direct Blue 218 | 1/1/95
28434-00-6 | d-trans-Allethrin | 1/1/95
29082-74-4 | Octachlorostyrene | 1/1/00
29232-93-7 | Pirimiphos-methyl | 1/1/95
30560-19-1 | Acephate | 1/1/95
31218-83-4 | Propetamphos | 1/1/95
33089-61-1 | Amitraz | 1/1/95
34014-18-1 | Tebuthiuron | 1/1/95
34077-87-7 | Dichlorotrifluoroethane | 1/1/94
35367-38-5 | Diflubenzuron | 1/1/95
35400-43-2 | Sulprofos | 1/1/95
35554-44-0 | Imazalil | 1/1/95
35691-65-7 | 1-Bromo-1-(bromomethyl)-1,3-propanedicarbonitrile | 1/1/95
38727-55-8 | Diethatyl ethyl | 1/1/95
39156-41-7 | 2,4-Diaminoanisole sulfate | 1/1/87
39300-45-3 | Dinocap | 1/1/95
39515-41-8 | Fenpropathrin | 1/1/95
40487-42-1 | Pendimethalin | 1/1/95
41198-08-7 | Profenofos | 1/1/95
41766-75-0 | 3,3′-Dimethylbenzidine dihydrofluoride | 1/1/95
42874-03-3 | Oxyfluorfen | 1/1/95
43121-43-3 | Triadimefon | 1/1/95
50471-44-8 | Vinclozolin | 1/1/95
51235-04-2 | Hexazinone | 1/1/95
51338-27-3 | Diclofop methyl | 1/1/95
51630-58-1 | Fenvalerate | 1/1/95
52645-53-1 | Permethrin | 1/1/95
53404-19-6 | Bromacil, lithium salt | 1/1/95
53404-37-8 | 2,4-D 2-ethyl-4-methylpentyl ester | 1/1/95
53404-60-7 | Dazomet, sodium salt | 1/1/95
55290-64-7 | Dimethipin | 1/1/95
55406-53-6 | 3-Iodo-2-propynyl butylcarbamate | 1/1/95
57213-69-1 | Triclopyr-triethylammonium salt | 1/1/95
59669-26-0 | Thiodicarb | 1/1/95
60168-88-9 | Fenarimol | 1/1/95
60207-90-1 | Propiconazole | 1/1/95
62476-59-9 | Acifluorfen, sodium salt | 1/1/95
63938-10-3 | Chlorotetrafluoroethane | 1/1/94
64902-72-3 | Chlorsulfuron | 1/1/95
64969-34-2 | 3,3′-Dichlorobenzidine sulfate | 1/1/95
66441-23-4 | Fenoxaprop-ethyl | 1/1/95
67485-29-4 | Hydramethylnon | 1/1/95
68085-85-8 | Cyhalothrin | 1/1/95
68359-37-5 | Cyfluthrin | 1/1/95
69409-94-5 | Fluvalinate | 1/1/95
69806-50-4 | Fluazifop-butyl | 1/1/95
71751-41-2 | Abamectin | 1/1/95
72178-02-0 | Fomesafen | 1/1/95
72490-01-8 | Fenoxycarb | 1/1/95
74051-80-2 | Sethoxydim | 1/1/95
76578-14-8 | Quizalofop-ethyl | 1/1/95
77501-63-4 | Lactofen | 1/1/95
82657-04-3 | Bifenthrin | 1/1/95
88671-89-0 | Myclobutanil | 1/1/95
90454-18-5 | Dichloro-1,1,2-trifluoroethane | 1/1/94
90982-32-4 | Chlorimuron-ethyl | 1/1/95
101200-48-0 | Tribenuron-methyl | 1/1/95
111512-56-2 | 1,1-Dichloro-1,2,3,3,3-pentafluoropropane (HCFC-225eb) | 1/1/95
111984-09-9 | 3,3′-Dimethoxybenzidine monohydrochloride | 1/1/95
127564-92-5 | Dichloropentafluoropropane | 1/1/95
128903-21-9 | 2,2-Dichloro-1,1,1,3,3-pentafluoropropane (HCFC-225aa) | 1/1/95
136013-79-1 | 1,3-Dichloro-1,1,2,3,3-pentafluoropropane (HCFC-225ea) | 1/1/95
¹ The listing of methyl mercaptan (CAS No. 74-93-1) is stayed. The stay will remain in effect until further administrative action is taken.
² The listing of 2,2-dibromo-3-nitrilopropionamide (CAS No. 10222-01-2) is stayed. The stay will remain in effect until further administrative action is taken.

(c) * * *

BILLING CODE 6560-50-P

[FR Doc. 2019-25356 Filed 11-27-19; 8:45 am]

BILLING CODE 6560-50-C